ENVIRONMENTAL PROTECTION AGENCY

40 CFR Part 63

[OAR-2002-0048—FRL-7462-1]

RIN 2060-AG55

National Emission Standards for Hazardous Air Pollutants: Surface Coating of Metal Furniture

AGENCY: Environmental Protection Agency (EPA).

ACTION: Final rule.

SUMMARY: This action promulgates national emission standards for hazardous air pollutants (NESHAP) for new and existing metal furniture surface coating operations located at major sources of hazardous air pollutant (HAP) emissions. The final standards implement section 112(d) of the Clean Air Act (CAA) which requires the Administrator to regulate emissions of HAP listed in section 112(b) of the CAA. The intent of the standards is to protect public health and the environment by requiring new and existing major sources to control emissions to the level attainable by implementing the maximum achievable control technology (MACT). The final standards will eliminate approximately 73 percent of nationwide HAP emissions from major sources that coat metal furniture. Metal furniture surface coating operations emit HAP such as xylene, toluene, ethylene glycol monobutyl ether and other glycol ethers, ethylbenzene, and methyl ethyl ketone. Health effects associated with these pollutants include eye, nose, throat, and skin irritation; nausea, vomiting, headache, and dizziness; and liver and kidney damage. We do not have the type of current detailed data on each of the facilities covered by the final rule and the people living around the facilities that would be necessary to conduct an analysis to determine the actual population exposures to the HAP emitted from these facilities and potential for resultant health effects. Therefore, we do not know the extent to which the adverse health effects described above occur in the populations surrounding these facilities. However, to the extent the adverse effects do occur, the final rule will reduce emissions and subsequent exposures.

EFFECTIVE DATE: May 23, 2003. The incorporation by reference of certain publications listed in today's final rule is approved by the Director of the Federal Register as of May 23, 2003.

ADDRESSES: Docket. Docket ID No. OAR-2002-0048 (formerly Docket No. A-97-40) is located at the EPA Docket Center, EPA West, U.S. EPA (6102T), 1301 Constitution Avenue, NW, Room B-102, Washington, DC 20460.

Background Information Document. A background information document (BID) for the promulgated NESHAP may be obtained from the docket; the U.S. EPA Library (C267-01), Research Triangle Park, NC 27711, telephone (919) 541-2777; or from the National Technical Information Service, 5285 Port Royal Road, Springfield, Virginia 22161, telephone (703) 487-4650. Refer to “National Emission Standards for Hazardous Air Pollutants (NESHAP): Surface Coating of Metal Furniture-Summary of Public Comments and Responses on Proposed Rule” (EPA-453/R-03-002). The promulgation BID contains a summary of changes made to the standards since proposal, public comments made on the proposed standards, and EPA responses to the comments.

FOR FURTHER INFORMATION CONTACT: Dr. Mohamed Serageldin, Coating and Consumer Products Group (C539-03), Emission Standards Division, U.S. EPA, Research Triangle Park, NC 27711, telephone number (919) 541-2379, facsimile number (919) 541-5689, electronic mail (e-mail) address: serageldin.mohamed@epa.gov.

SUPPLEMENTARY INFORMATION: Regulated Entities. Categories and entities potentially regulated by this action include those listed on the following table. This table is not intended to be exhaustive, but is just a guide to entities likely to be regulated by the standards. It lists the types of entities that may be regulated, but you should examine the applicability criteria in §§ 63.4881 and 63.4882 of the rule to decide whether your facility is regulated by the standards.

Categories and Entities Potentially Regulated by the Standards
Product description | NAICS code(s) | NAICS Product Description
Metal Household Furniture | 337124 | Metal Household Furniture Manufacturing.
Office Furniture, Except Wood | 337214 | Nonwood Office Furniture Manufacturing.
Public Building and Related Furniture | 337127 | Institutional Furniture Manufacturing.
Office and Store Fixtures, Partitions, Shelving, and Lockers, Except Wood | 337215 | Showcase, Partition, Shelving, and Locker Manufacturing.
Furniture and Fixtures, Not Classified Elsehwere | 337127 | Institutional Furniture Manufacturing.
Hardware, Not Classified Elsewhere | 332951 | Hardware Manufacturing.
Metal Stampings, Not Classified Elsewhere (Except Kitchen Utensils, Pots and Pans for Cooking, and Coins) | 332116 | Metal Stamping.
Wire Springs | 332612 | Wire Spring Manufacturing.
Fabricated Metal Products, Not Classified Elsewhere | 337215 | Showcase, Partition, Shelving, and Locker Manufacturing.
Residential Electric Lighting Fixtures | 335121 | Residential Electric Lighting Fixture Manufacturing.
Commercial, Industrial, and Institutional Electric Lighting Fixtures | 335122 | Commercial, Industrial, and Institutional Electric Lighting Fixture Manufacturing.
Laboratory Apparatus and Furniture | 339111 | Laboratory Furniture Manufacturing.
Dental Equipment and Supplies | 339114 | Dental Equipment Manufacturing.
Manufacturing Industries, Not Classified Elsewhere | 337127 | Institutional Furniture Manufacturing.
Reupholstery and Furniture Repair | 81142 | Reupholstery and Furniture Repair.
State/Federal Governmental Agencies |  | State/Federal correctional institutions that apply coatings to metal furniture.

Docket. The EPA has established an official public docket for this action under Docket ID No. OAR-2002-0048 (formerly Docket No. A-97-40). The official public docket consists of the documents specifically referenced in this action, any public comments received, and other information related to this action. Although a part of the official docket, the public docket does not include Confidential Business Information (CBI) or other information whose disclosure is restricted by statute. The official public docket is the collection of materials that is available for public viewing at the EPA Docket Center, EPA West, Room B-102, 1301 Constitution Avenue, NW., Washington, DC 20460. The Docket Center is open from 8:30 a.m. to 4:30 p.m., Monday through Friday, excluding legal holidays. The telephone number for the Reading Room is (202) 566-1744, and the telephone number for the Docket is (202) 566-1742. A reasonable fee may be charged for copying docket materials.

Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above. Once in the system, select “search,” then key in the appropriate docket identification number.

Worldwide Web (WWW). In addition to being available in the docket, an electronic copy of today's final rule will also be available on the WWW through EPA's Technology Transfer Network (TTN). Following signature by the EPA Administrator, a copy of the rule will be posted on the TTN's policy and guidance page for newly proposed or promulgated rules at http://www.epa.gov/ttn/oarpg. The TTN provides information and technology exchange in various areas of air pollution control. If more information regarding the TTN is needed, call the TTN HELP line at (919) 541-5384.

Judicial Review. Under section 307(b) of the CAA, judicial review of the final rule is available only by filing a petition for review in the United States Court of Appeals for the District of Columbia Circuit by July 22, 2003. Under section 307(d)(7)(B) of the CAA, only an objection to the rule which was raised with reasonable specificity during the period for public comment can be raised during judicial review. Moreover, under section 307(b)(2) of the CAA, the requirements established by today's final action may not be challenged separately in any civil or criminal proceeding we bring to enforce these requirements.

Outline. The information presented in this preamble is organized as follows:

I. Background

A. What Is the Source of Authority for Development of NESHAP?

B. What Criteria Do We Use in the Development of NESHAP?

II. What Changes and Clarifications Have We Made to the Proposed Standards?

A. Overlap With Other NESHAP Source Categories

B. MACT Floors and Emission Limits

C. Military Coatings

D. Compliance During Periods of Startup, Shutdown, and Malfunction

E. Monitoring

F. Title V Operating Permits

G. Other Changes and Clarifications

III. What Are the Final Standards?

A. What Is the Source Category?

B. What Is the Affected Source?

C. What Are the Emission Standards?

D. Interaction With Other Regulations

IV. When Do I Show Initial Compliance With the Rule?

V. What Testing and Monitoring Must I Do?

A. Test Methods and Procedures

B. Monitoring Requirements

VI. What Notification, Recordkeeping, and Reporting Requirements Must I Follow?

A. Initial Notification

B. Notification of Performance Tests

C. Notification of Compliance Status

D. Recordkeeping Requirements

E. Semiannaul Reports

VII. What Are the Environmental, Energy, and Economic Impacts of the Rule?

A. What Are the Air Impacts?

B. What Are the Cost Impacts?

C. What Are the Economic Impacts?

D. What Are the Nonair Health, Environmental, and Energy Impacts?

VIII. Statutory and Executive Order Reviews

A. Executive Order 12866, Regulatory Planning and Review

B. Paperwork Reduction Act

C. Regulatory Flexibility Act (RFA)

D. Unfunded Mandates Reform Act of 1995

E. Executive Order 13132, Federalism

F. Executive Order 13175, Consultation and Coordination With Indian Tribal Governments

G. Executive Order 13045, Protection of Children From Environmental Health Risks and Safety Risks

H. Executive Order 13211, Actions Concerning Regulations That Significantly Affect Energy Supply, Distribution, or Use

I. National Technology Transfer and Advancement Act

J. Congressional Review Act

I. Background

A. What Is the Source of Authority for Development of NESHAP?

Section 112 of the CAA requires us to list categories and subcategories of major sources and area sources of HAP and to establish NESHAP for the listed source categories and subcategories. The category of major sources covered by the final NESHAP was listed on July 16, 1992 (57 FR 31576) under the Surface Coating Processes industry group. Major sources of HAP are those that emit or have the potential to emit considering controls, in the aggregate, 9.07 megagrams per year (Mg/yr) (10 tons per year (tpy)) or more of any HAP or 22.68 Mg/yr (25 tpy) or more of any combination of HAP.

B. What Criteria Do We Use in the Development of NESHAP?

Section 112 of the CAA requires that we establish NESHAP for the control of HAP from both new and existing major sources. The CAA requires the NESHAP to reflect the maximum degree of reduction in emissions of HAP that is achievable. This level of control is commonly referred to as the MACT.

The MACT floor is the minimum control level allowed for NESHAP and is defined under section 112(d)(3) of the CAA. In essence, the MACT floor ensures that the emission limitation is set at a level that assures that all major sources achieve the level of control at least as stringent as that already achieved by the better-controlled and lower-emitting sources in each source category or subcategory. For new sources, the MACT floor cannot be less stringent than the emission control that is achieved in practice by the best-controlled similar source. The MACT standards for existing sources can be less stringent than the standards for new sources, but they cannot be less stringent than the average emission limitation achieved by the best performing 12 percent of existing sources in the category or subcategory (or the best performing five sources for categories with fewer than 30 sources).

In developing MACT, we also consider control options that are more stringent than the floor. We may establish standards more stringent than the floor based on consideration of the cost of achieving the emission reductions, any health and environmental impacts, and energy requirements.

II. What Changes and Clarifications Have We Made to the Proposed Standards?

In response to public comments received on the proposed standards, we made several changes in developing the final rule. While some of the changes were designed to make our intentions clearer, other changes resulted in revisions to the MACT floors and emission limits. The substantive comments and our responses and rule changes are summarized in the following sections. A more detailed summary of these comments as well as other comments received along with our responses can be found in the BID for the final rule which is available from several sources (see ADDRESSES).

A. Overlap with Other NESHAP Source Categories

Two commenters requested that the final rule provide compliance flexibility for facilities that coat a variety of items in addition to metal furniture and metal furniture components. Such facilities may be affected by several surface coating NESHAP, such as the existing standards for wood furniture, the proposed standards for miscellaneous metal parts and products (67 FR 52780, August 13, 2002), and the proposed standards for plastic parts and products (67 FR 72276, December 4, 2002). The commenters sought a regulatory approach that would allow facilities to opt specific coating operations or product lines that are collocated with metal furniture surface coating operations out of the rule and into one of the other surface coating NESHAP.

Another commenter believed that the proposed rule did not adequately address all the possible overlap issues between the metal furniture and wood furniture surface coating NESHAP, particularly when a furniture item consists of both metal and wood components.

We understand that it could be beneficial to consolidate regulatory requirements at facilities where coating operations belonging to different source categories (such as metal furniture, miscellaneous metal parts and products, and plastic parts and products) are collocated. Consolidation may reduce the amount of records, reports, or compliance calculations that the facility would have to maintain. Some commenters suggested that the final rule include a compliance option that would allow this consolidation of different regulatory requirements within a facility. Section 112(d)(2) of the CAA states that all major sources within a regulated source category must meet the maximum degree of emission reduction that we determine to be achievable. We do not believe that the commenters' recommendation of allowing a facility to choose which coating operations to opt into, or out of, a particular NESHAP would ensure that the MACT level of control was met for all HAP emission points within each source category. Therefore, to comply with these CAA requirements, we have not included the compliance option suggested by the commenters in the final rule.

We recognize that there is not always a clear dividing line between the affected sources of the surface coating rules. This is evident in the furniture manufacturing industry, where both metal and wood furniture may be produced in the same facility, and many pieces of furniture contain substantial portions of metal and wood. For those commenters concerned with lack of clarity between the applicability of the metal furniture rule and other surface coating rules, in particular the wood furniture surface coating rule (40 CFR part 63, subpart JJ), we are providing clarification through the following examples.

Example 1. Coating operations at facilities currently subject to the wood furniture rule (40 CFR part 63, subpart JJ) would continue to be subject to that rule. This would be the case even if the items coated contained metal components, as long as the items meet the definition of wood furniture or wood furniture component in § 63.801(a) of 40 CFR part 63, subpart JJ.

Example 2. Coating operations at facilities that coat metal furniture (as defined in § 63.4881(a)(2) of the final rule) constructed either entirely or partially from metal (but not qualifying as wood furniture components under subpart JJ) would be subject to the metal furniture rule.

Example 3. Facilities that coat only metal furniture components such as knobs, hinges, and screws (that is, components that are of a more generic nature and could have broader uses in products other than metal furniture) and provide these components exclusively to metal furniture manufacturing facilities would be subject to the metal furniture rule.

Example 4. The applicability of the surface coating rules when the item coated is composed of both metal and wood components in approximately equivalent percentages will depend primarily on the functionality of the entire unit. A common example of such an item is a commercial shelving unit constructed of a metal base and wood backing. For reasons related to structural rigidity or overall stability, the functionality of this particular shelving unit depends more on the metal components than the wood components. The surface coating of this shelving unit would be regulated under the metal furniture rule. Thus, the surface coating of all components of this shelving unit, regardless of whether they are made of metal or wood, would be regulated under the metal furniture rule, so long as the facility is a metal furniture manufacturing facility. This would be true even if the metal furniture manufacturing facility dedicated a coating line exclusively to the coating of the wood components.

Example 5. Coating operations such as those presented in Example 4 may not involve items that can be readily classified according to functionality. For these situations, the applicability determination would be made on a case-by-case basis taking into account functionality and other relevant factors. These factors may include the primary North American Industrial Classification System (NAICS) code for the facility, amount of surface area coated for each type of substrate, and how the coating operations have been classified for other surface coating rules (such as new source performance standards (NSPS) and State rules).

The examples we have provided here are necessarily simplistic in nature compared to many of the situations encountered in the metal furniture manufacturing industry and are intended only to provide guidance. Even so, the examples demonstrate the complex applicability issues related to this rule and why precisely defining applicability among the surface coating rules has proved to be a challenge. While we realize that many of the situations encountered in the metal furniture manufacturing industry can be far more complicated than presented here, discussion of these more complex situations is beyond the scope of this preamble. For these reasons, we intend to provide additional guidance documents in the future that will specifically address some of the more complex applicability issues. In order to address the specific concerns raised by the metal furniture industry, we are planning to involve all interested stakeholders in the development of these guidance documents. We will announce at a future date how stakeholders may become involved in this effort.

B. MACT Floors and Emission Limits

The database we used to determine the MACT floors for new and existing sources consisted of 49 facilities that responded to our questionnaires. Of these 49 facilities, 22 provided complete data such that we could calculate an emission rate for all of the metal furniture surface coating operations in terms of kilograms (kg) organic HAP per liter coating solids used. Of the 27 remaining facilities, we believed we had enough data to estimate that, had all of the requested data been provided, their emission rates would have fallen within the range represented by the facilities for which we had complete data. Therefore, we based the existing source MACT floor on the best performing 12 percent of 49 facilities rather than 12 percent of 22 facilities.

One commenter stated that section 112(d)(3)(A) of the CAA requires us to use only those facilities “for which the Administrator has emissions information.” The commenter believed that this language limited us to considering only the 22 facilities, not the entire group of 49 facilities.

In response to these comments, we reviewed the information that was submitted by the 27 facilities with incomplete data. We also attempted to obtain additional information from some of the facilities. As a result of these efforts, we could not confirm the accuracy of our original assumption that the emission rates for these 27 facilities would fall within the range represented by the facilities with complete data. As a result, we agree with the commenter that a more appropriate basis for the floor determination is the data set for the 22 facilities that submitted complete data. Using information from only those facilities, we recalculated the existing source MACT floor based on the average of the best performing 12 percent of 22 facilities. This calculation reduced the MACT floor from 0.12 kg organic HAP per liter (1.0 lb/gallon (gal)) coating solids used to 0.10 kg organic HAP per liter (0.83 lb/gal) coating solids. In the final rule, the existing source emission limit in § 63.4890 corresponds to the new MACT floor value.

Two commenters also questioned our rejection of above-the-floor options for existing sources. We continue to believe that rejecting above-the-floor options was appropriate for existing sources. However, during our analysis of these comments, we began to further consider how the state-of-the-art for new sources has changed since our initial data gathering efforts. We have always recognized that there are certain coating technologies that may emit no organic HAP (as calculated according to § 63.4941(a)) such as powder coatings and liquid coatings that contain no organic HAP. The industry questionnaire responses that we reviewed in 1998 (representing 1997 data) showed that six facilities used powder coatings exclusively, and they were not used for the MACT floor calculations because they were true area sources. These powder coating facilities produced metal furniture items such as office chairs, dental chairs, commercial and residential lighting fixtures, and indoor and outdoor lighting fixtures. Of these six powder coating facilities, three had coating solids usages within the range represented by the facilities we used to determine the MACT floor (in other words, had these three facilities used conventional liquid coatings instead of powder coatings, we would expect them to be major sources of HAP emissions and they would have been included in the determination of the MACT floor). We believe these data demonstrate the industry's current ability to exclusively use powder coatings in many situations.

Based on the 1998 questionnaire responses of the 22 facilities that provided complete data, information was provided for 188 individual liquid coatings. Eight of these coatings were reported as containing no organic HAP. In addition, another 48 individual coatings were reported as containing less than 1 percent by mass of organic HAP (typically as a small component of a solvent blend such as aromatic naphtha). We believe that this high percentage of non-HAP (or essentially non-HAP) coatings used by these 22 facilities indicates the coating suppliers' ability to produce and market non-HAP coatings and demonstrates that they are currently in use by the industry.

Over the past 5 years since we sent questionnaires to the metal furniture manufacturing industry, non-HAP coating technologies have undergone continual development. The availability of powder coatings in a wide range of colors has increased, as has the ability to produce various surface finishes and control film thickness. Coating manufacturers have also made significant strides in formulating non-HAP coatings, driven in large part by the requirements of surface coating NESHAP for a wide variety of industries. In addition, we are aware of other coating technologies, such as electrocoating, that have the potential to emit no HAP. Although we are not currently aware of these coating technologies being used in the metal furniture industry, we believe they can be used in certain circumstances and represent viable alternatives for new sources.

We believe the continual development of these non-HAP coating technologies over the past several years has allowed them to gain wider acceptance and use within the metal furniture surface coating industry, such that we now believe they represent in the aggregate the MACT floor for new sources. Considering that new sources have much greater latitude than existing sources to design manufacturing operations and the metal furniture items themselves to accommodate these coating technologies, new sources can more readily take advantage of these coating technologies. Accordingly, we have revised the new source MACT floor to be no emissions of organic HAP from metal furniture surface coating operations. The emission limit for new sources in § 63.4890 of the final rule reflects this new MACT floor determination.

We also recognize that there may be specialized appearance or functional characteristics that can be produced only with coating technologies employing organic HAP, even for new sources. To accommodate these situations, we added a provision in the final rule that allows a new affected source to demonstrate on a case-by-case basis that organic HAP-free coating technologies cannot be used for their specific products. If we approve such a request, then the source would be required to meet an emission limit of 0.094 kg organic HAP per liter (0.78 lb/gal) coating solids used. This emission limit is the same as the emission limit originally proposed for new sources and would apply only to the specific products for which the determination was made, not all of the metal furniture surface coating operations at the new source.

C. Military Coatings

One commenter expressed concern about metal furniture used in battlefield situations. Such furniture may be coated with chemical agent resistant coatings and other coatings unique to the military. The commenter believed that the emission limits developed for the metal furniture rule did not take into account the needs of the military to sustain metal furniture and other battlefield support equipment and requested that all such coatings be regulated under the proposed NESHAP for miscellaneous metal parts and products, once those standards become final. Upon further analysis, we agree that military coatings used for refurbishment of military equipment may be unique from those used to develop the emission limits as in the proposed metal furniture surface coating rule and require special consideration. However, because so many different products are involved (metal furniture, large appliances, wood furniture, miscellaneous metal parts, fabric coating, and plastic parts), we believe the more appropriate approach is to group all of the products coated with specialized military coatings into their own source category. Thus, we are creating a new source category for the surface coating of refurbished military equipment for this purpose. The final rule for metal furniture includes an exemption for military coatings (see § 63.4881(c)(6) of the final rule) that will be included in the newly created source category.

D. Compliance During Periods of Startup, Shutdown, and Malfunction

One commenter believed that the statement in § 63.4900(a)(2) of the proposed rule that affected sources do not have to comply with the emission limitations during periods of startup, shutdown, and malfunction does not comply with the CAA. This provision is often found in NESHAP in which compliance with the standards is based on the results of a short-term initial performance test and short-term averaging of continuous monitoring results thereafter. In consideration of this comment, we realized that this provision is not appropriate for the surface coating NESHAP when these short-term tests and monitoring results are only one component of a compliance determination that determines emissions over a long period of time, which in this case is a month. For the metal furniture surface coating NESHAP, the source owner or operator will use the performance test and continuous monitoring results in combination with data on coatings and other materials used over a month's period of time. These components will be combined to calculate a monthly organic HAP emission rate. Since there may be many startups and shutdowns of a coating operation over the course of a month as part of normal operation, it is not appropriate to exempt such periods from compliance with the standards. We believe that a month-long compliance period will accommodate potential short-term higher emission rates that might occur due to startup, shutdown, or malfunction, and that the proposed exemption is not necessary or appropriate. Thus, we revised and simplified the general compliance requirements in § 63.4900; we removed the statement that sources must be in compliance except during periods of startup, shutdown, and malfunction. We state in § 63.4900(a) of the final rule that all affected sources must be in compliance with the emission limitations in § 63.4890 at all times. We left in place the requirement for sources using an emission capture system and add-on control device to develop and implement a written startup, shutdown, and malfunction plan according to § 63.6(e)(3).

E. Monitoring

One commenter believed we inappropriately used the terms “sensitivity” and “tolerance” interchangeably in § 63.4968 of the proposed rule (now § 63.4967 in the final rule). We agree with the commenter and replaced both terms with the term “accuracy.” We also made numerous changes throughout this section to simplify monitoring requirements and maintain consistency with the monitoring requirements in other surface coating NESHAP under development.

F. Title V Operating Permits

Several commenters had concerns about possible conflicts between reporting requirements under this rule and their approved title V programs. It is important to emphasize that a permitting authority does not have the authority to change the reporting requirements of this rule (such as type of report, content of report, and/or frequency of submission). Reporting requirements under this rule are applicable requirements, and sources must comply with them.

The final rule, consistent with the proposed rule, does however allow an affected source to submit its semiannual compliance report along with, or as part of, its 6-month monitoring report required by 40 CFR part 70 or 40 CFR part 71. See § 63.4920(a)(1)(iv) and (a)(2) of the final rule. As a result of comments, § 63.4920(a)(1)(iv) and (a)(2) of the final rule have been modified to clarify when monitoring reports are required by 40 CFR part 70 or 40 CFR part 71 (every 6 months) and when a 6-month monitoring report must cross-reference a semiannual compliance report. Language was also added to § 63.4920(a)(1)(iv) of the final rule to ensure that a semiannual compliance report is submitted within a reasonable time (30 days) after the end of the semiannual reporting period.

At the request of commenters, §§ 63.4910(c)(2) and 63.4920(a)(3)(ii) of the final rule have been revised to ensure that certifications of truth, accuracy, and completeness for the notifications of compliance status and semiannual compliance reports under this rule are consistent with the certification requirements under 40 CFR part 70 or 40 CFR part 71. Additionally, “of the content” was deleted from both of these paragraphs as a responsible official needs to certify that the entire submittal is complete, not just the content of the report.

It is also important to correct in this final preamble a statement made in subsection B of Section II of the preamble to the proposed rule (67 FR 20206, 20208). In this subsection—“What is the relationship to other rules?”—the following is stated: “Overlapping reporting, recordkeeping, and monitoring requirements may be resolved through the title V permit process.” This statement is overly broad as 40 CFR part 70 and 40 CFR part 71 only address situations where more than one monitoring (including recordkeeping designed to serve as monitoring) or testing requirement applies. Specifically, 40 CFR 70.6(a)(3)(i)(A) and 40 CFR 71.6(a)(3)(i)(A) state in part that “If more than one monitoring or testing requirement applies, the permit may specify a streamlined set of monitoring or testing provisions provided the specified monitoring or testing is adequate to assure compliance at least to the same extent as the monitoring or testing applicable requirements that are not included in the permit as a result of such streamlining; * * *.” There are no provisions in 40 CFR part 70 or 40 CFR part 71, however, which allow for the streamlining of overlapping recordkeeping or reporting requirements, unless the recordkeeping is designed to serve as monitoring as described in 40 CFR 70.6(a)(3)(i)(B) or 40 CFR 71.6(a)(3)(i)(B).

G. Other Changes and Clarifications

In addition to the changes described above, we note several areas of the proposed rule that warrant rewriting for the final rule, even though commenters did not object to them. They are necessary so that the provisions properly reflect our intent and are consistent with other surface coating NESHAP under development.

The proposed rule allowed the volume fraction of coating solids to be determined by means of a test method or from information provided by the supplier or manufacturer. We realize that there may be certain situations where neither of these options is adequate and added a calculation at § 63.4941(b)(3) for volume fraction of coating solids when the mass fraction and average density of the volatile components of the coating are known.

Section 63.4962 of the proposed rule contained detailed procedures for determining compliance when a source operates under different sets of representative operating conditions. Upon further review of this section, we believe this option is overly complicated and would be difficult to implement in actual practice. Rather than including these detailed compliance procedures in the final rule, we decided on a general statement allowing such a compliance demonstration if you believe a workable and enforceable procedure can be maintained to demonstrate compliance under different sets of representative operating conditions (see § 63.4891(d)(2) of the final rule). You would be required to develop your own detailed compliance procedure tailored to your specific situation and submit the procedure to the Administrator for approval. We also took this action to maintain consistency with other surface coating NESHAP under development that do not contain this option.

We added an alternative to Method 3B at § 63.4965(a)(3) of the final rule. This alternative test method, ANSI/ASME PTC 19.10-1981, Flue and Exhaust Gas Analyses [Part 10, Instruments and Apparatus], was inadvertently omitted from the proposed rule. We also added § 63.4966(g) to provide guidance for monitoring when a bioreactor system is used as an add-on control device to comply with the emission limits.

In addition to the actions described above, we have clarified our intent to promote consistency with other surface coating NESHAP currently under development.

III. What Are the Final Standards?

A. What Is the Source Category?

The rule applies to you if you own or operate a metal furniture surface coating facility that is a major source, is located at a major source, or is part of a major source of HAP emissions. We have defined a metal furniture surface coating facility as one that applies coatings to metal furniture or components of metal furniture. Metal furniture means furniture or components that are constructed either entirely or partially from metal.

You would not be subject to the rule if your metal furniture surface coating facility is located at an area source. An area source of HAP is any facility that emits or has the potential to emit HAP but is not a major source. You may establish area source status by limiting the source's potential to emit HAP through appropriate mechanisms available through the permitting authority. You would not be subject to the rule if you use only coatings, thinners, and cleaning materials that contain no organic HAP. The source category does not include surface coating that occurs at research or laboratory facilities or that is part of janitorial, building, and facility maintenance operations. It also does not include coating applications using handheld nonrefillable aerosol containers.

B. What Is the Affected Source?

We define an affected source as a stationary source, group of stationary sources, or part of a stationary source to which specific NESHAP apply. Within a source category, we select the specific emission sources (emission points or groupings of emission points) that will make up the affected source for that category. To select these emission sources, we mainly consider the constituent HAP and quantity emitted from individual or groups of emission points.

For the metal furniture surface coating NESHAP, the affected source is the collection of all operations associated with the surface coating of metal furniture or components of metal furniture that are performed at a contiguous area under common control. These operations include preparation of a coating for application (for example, mixing with thinners); surface preparation of the metal furniture or component; coating application and flash-off; drying and/or curing of applied coatings; cleaning of equipment used in surface coating; storage of coatings, thinners, and cleaning materials; and handling and conveyance of waste materials from the surface coating operations. Coatings include such materials as adhesives and protective or decorative coatings.

C. What Are the Emission Standards?

We are promulgating standards that limit HAP emissions from the surface coating of metal furniture. The standards include emission limits and operating limits. The emission limits are different for new and existing sources and have changed since proposal.

Emission limits. We are limiting each new and reconstructed affected source to no organic HAP emissions. The limit for each existing affected source is 0.10 kg organic HAP/liter (0.83 lb/gal) coating solids used. These limits apply to the total of all coatings, thinners, and cleaning materials used in coating operations at the affected source.

There are three compliance options available for meeting the emission limits. The compliant material option requires that each coating used in the coating operation meet the limit, and each thinner and cleaning material must contain no organic HAP. Under the emission rate without add-on controls option, you may average all of the coatings, thinners, and cleaning materials used together and demonstrate that the overall emission rate is in compliance with the applicable limit. The emission rate with add-on controls option applies to coating operations for which add-on controls are used to meet the limit. Under this option, you must meet certain operating limits for the capture systems and control devices and follow a work practice plan for your material storage, mixing, conveying, and spills.

Operating limits. If you reduce emissions by using a capture system and add-on control device (other than a solvent recovery system for which you conduct a monthly liquid-liquid material balance), the rule's operating limits would apply to you. These limits are site-specific parameter limits you determine during the initial performance test of the system. For capture systems, you would establish average volumetric flow rate limits for each capture device (or enclosure) in each capture system. You would also establish limits on average pressure drop across openings in the capture system.

For thermal and catalytic oxidizers, you would monitor temperature. For solvent recovery systems for which you do not conduct a monthly liquid-liquid material balance, you would monitor the carbon bed temperature and the amount of steam or nitrogen used to desorb the bed. For condensers, you would monitor the temperature of the outlet gas temperature from the condenser.

All operating limits must reflect operation of the capture system and control devices during a performance test that demonstrates achievement of the emission limit during representative operating conditions.

General Provisions. The General Provisions (40 CFR part 63, subpart A) also apply to you as outlined in Table 2 of the final rule. The General Provisions codify certain procedures and criteria for all 40 CFR part 63 NESHAP. The General Provisions contain administrative procedures, preconstruction review procedures for new sources, and procedures for conducting compliance-related activities such as notifications, reporting, and recordkeeping, performance testing, and monitoring. The rule refers to individual sections of the General Provisions to emphasize key sections that you should be aware of. However, unless specifically overridden in the rule, all of the applicable General Provisions requirements apply to you.

D. Interaction With Other Regulations

Affected sources subject to the rule may also be subject to other rules. The relationship between this rule and other rules is discussed below.

New source performance standards—40 CFR part 60, subpart EE. The metal furniture NSPS apply to facilities that apply organic coatings to metal furniture and that began construction, reconstruction, or modification after November 28, 1980. The pollutants regulated are volatile organic compounds (VOC). Emissions of VOC are limited to 0.09 kg per liter of coating solids applied, and the affected source is each individual coating operation.

The rule differs from the NSPS in three ways. First, the affected source for the rule is defined broadly as the collection of all coating operations and related activities and equipment at the facility, whereas the affected facility for the NSPS is defined narrowly as each individual coating operation. The broader definition of affected source allows a facility's emissions to be combined for compliance purposes. Second, the NESHAP regulate organic HAP. While most organic HAP emitted from metal furniture surface coating operations are VOC, some VOC are not listed as HAP and, therefore, the NSPS regulate a broader range of pollutants than would the NESHAP. Third, the emission limitations in the NESHAP would be based on the amount of solids used at the affected source. The NSPS limitations are based on the amount of solids actually applied to the metal furniture which necessitates estimates of transfer efficiency in the compliance calculations.

Because of the differences between the NESHAP and the NSPS, compliance with either one cannot be deemed compliance with the other. A metal furniture surface coating facility that meets the applicability requirements of both rules must comply with both.

National emission standards for wood furniture manufacturing operations—40 CFR part 63, subpart JJ. There may be situations where a manufacturer of wood furniture also coats metal components of that wood furniture. Coating lines that are currently subject to subpart JJ will remain subject to only that rule so long as they continue to coat products that meet the definition of “wood furniture” or “wood furniture component” in § 63.801. This will be the case even if there are metal parts on the wood furniture or wood furniture components when they are coated.

Future national emission standards for the surface coating of miscellaneous metal parts. Metal furniture often contains components, such as metal knobs, hinges, and screws, that have a wider use beyond metal furniture. As stated previously, the coating of such parts would be subject to the metal furniture rule if the coating takes place at a facility that is coating metal furniture, or a facility whose entire production is dedicated to coating parts to be used exclusively in, or on, metal furniture. If the coating of such parts takes place at a facility that coats these parts for multiple types of products (e.g., not exclusively metal furniture), the coating operations would be subject to the proposed NESHAP for the surface coating of miscellaneous metal parts and products (August 13, 2002, 67 FR 52780).

Future national emission standards for the surface coating of plastic parts and products. Plastic parts and products may be components (e.g., plastic handles) of metal furniture. The coating of such plastic parts would be subject to the metal furniture rule if the coating takes place at a metal furniture surface coating facility; or if it takes place at a facility whose entire production is dedicated to coating plastic parts for metal furniture. If the coating takes place at a facility that coats these plastic parts for multiple types of products (e.g., not exclusively metal furniture), the coating operations would be subject to the proposed NESHAP for the surface coating of plastic parts and products (December 4, 2002, 67 FR 72276).

IV. When Do I Show Initial Compliance With the Rule?

Existing affected sources must comply with the rule no later than 3 years after May 23, 2003. The effective date is May 23, 2003. New or reconstructed affected sources must comply upon start-up or May 23, 2003, whichever is later. Details of the compliance requirements can be found in the General Provisions, as outlined in Table 2 of today's rule.

Before your initial compliance demonstration, you must choose which of the several compliance options you will use for your affected source. In your initial compliance certification, you must notify the Administrator of your choice and after that, you must monitor and report compliance results accordingly. If you decide to change to other emission limit options, you are also required to notify the Administrator, as with other changes at the facility, as discussed later in this preamble.

V. What Testing and Monitoring Must I Do?

In addition to the specific testing and monitoring requirements specified below for the affected source, the rule adopts the testing requirements specified in 40 CFR 63.7.

A. Test Methods and Procedures

Emission limit(s). There are several options for complying with the emission limit(s), and the testing and initial compliance requirements vary accordingly.

If you demonstrate compliance based on the materials used in the affected source, you must determine the mass of organic HAP and the volume of solids in all materials used during the initial compliance period.

To determine the mass of organic HAP in coatings, thinners, and cleaning materials and the volume coating solids, you could either rely on manufacturer's data or on results from the test methods listed below. Under § 63.4941 of the rule, you would be required to determine the mass of organic HAP in coatings, thinners, and cleaning materials used. To do this, you must count HAP that are present at 1 percent by mass or more if they are not carcinogens identified by the Occupational Safety and Health Administration (OSHA) at 29 CFR 1910.1200(d)(4), and count HAP that are present at 0.1 percent by mass or more if they are OSHA-identified carcinogens. Coating and solvent manufacturers are accustomed to providing a breakdown of material components according to this distinction and routinely report the values on Material Safety Data Sheets for the materials, as required by OSHA. We could have selected some other way to count HAP components of materials but concluded that allowing this long-standing approach to be used for compliance with the rule would provide the information needed for compliance assurance and would not impose any additional burden on the industry.

You may use alternative test methods provided you get EPA approval in accordance with the NESHAP General Provisions, § 63.7(f). If there is any inconsistency between the test method results (either EPA's or an approved alternative) and manufacturer's data, the test method results would prevail for compliance and enforcement purposes.

• For organic HAP content, use Method 311 of 40 CFR part 63, appendix A;

• The rule allows you to use nonaqueous volatile matter as a surrogate for organic HAP, which would include all organic HAP plus all other organic compounds. If you choose this option, then use Method 24 of 40 CFR part 60, appendix A; and

• For volume fraction of coating solids, use either manufacturer's data or ASTM Method D2697-86 (1998), Standard Test Method for Volume Nonvolatile Matter in Clear or Pigmented Coatings, or ASTM Method D6093-97, Standard Test Method for Percent Volume Nonvolatile Matter in Clear or Pigmented Coatings Using a Helium Gas Pycnometer. If you are not able to use these procedures, then you may calculate the volume fraction of coating solids based on the density and mass fraction of the volatile components.

To demonstrate initial compliance based on the materials used, you are required to either ensure that the organic HAP content of each coating meets the emission limit and that you use no organic HAP-containing thinners or cleaning materials; or ensure that the total mass of organic HAP in all coatings, thinners, and cleaning materials divided by the total volume of coating solids meets the emission limit. For the latter option, you are required to:

• For the initial compliance period, determine the quantity of each coating, thinner, and cleaning material used in the affected source.

• Determine the mass of organic HAP in each coating, thinner, and cleaning material.

• Determine the volume fraction coating solids for each coating.

• Calculate the total mass of organic HAP for materials and total volume of coating solids used in the affected source for the compliance period. You may subtract from the total mass of organic HAP the amount of organic HAP contained in waste materials you send, during that compliance period, to a hazardous waste treatment, storage, and disposal facility regulated under 40 CFR part 262, 264, 265, or 266. The calculation equation (Equation 1 in § 63.4951) adds together all the organic HAP in the coatings, thinners, and cleaning materials and allows you to subtract organic HAP in waste materials as indicated above. The calculated mass of organic HAP is, therefore, not based on actual measurement of emissions to the atmosphere but rather assumes that all organic HAP used (less those in waste materials as appropriate) are emitted. This means of determining organic HAP emissions for compliance is consistent with the means by which we calculated emission rates from industry data on which the emission limits are based. We believe that Equation 1 in § 63.4951 is a simple mass-balance relationship which adequately quantifies the organic HAP emissions without imposing an excessive burden on respondents.

• Calculate the ratio of the total mass of organic HAP for the materials used to the total volume of coating solids used.

• Record the calculations and results and include them in your notification of compliance status.

If you use a capture system and control device other than a solvent recovery system for which you conduct a monthly liquid-liquid material balance, you must:

• Conduct an initial performance test to determine the capture and control efficiencies of the equipment (described below) and to establish operating limits to be achieved on a continuous basis (also described below). The performance test must be completed no later than the compliance date for existing sources and 180 days after the compliance date for new and reconstructed sources (§ 63.4960). You must schedule it in time to obtain the results for use in completing your compliance determination for the initial compliance period.

• Determine the mass of organic HAP in each material and the volume fraction coating solids for each coating used during the initial compliance period.

• Calculate the organic HAP emissions from all the controlled coating operations using the capture and control efficiencies determined during the performance test and the total mass of organic HAP in materials used in controlled coating operations.

• Calculate the total mass of organic HAP emissions from uncontrolled coating operations.

• Calculate the ratio of the total mass of HAP emissions from both controlled and uncontrolled coating operations to the total volume of coating solids used during the initial compliance period.

• Record the calculations and results and include them in your Notification of Compliance Status.

The capture and control efficiency for a capture and control system other than a solvent recovery system for which you conduct monthly liquid-liquid material balances must be demonstrated based on emission capture and reduction efficiency. To determine the capture efficiency, you must either verify the presence of a permanent total enclosure (PTE) using EPA Method 204 of 40 CFR part 51, appendix M, (all materials must be applied and dried within the enclosure) or use one of three protocols in § 63.4964 to measure capture efficiency. If you have a PTE and all materials are applied and dried within the enclosure and you route all exhaust gases from the enclosure to a control device, then you would assume 100 percent capture.

To determine the emission reduction efficiency of the control device, you must conduct measurements of the inlet and outlet gas streams. The test must consist of three runs, each run lasting 1 hour, using the following EPA Methods in 40 CFR part 60, appendix A:

• Method 1 or 1A for selection of the sampling sites.

• Method 2, 2A, 2C, 2D, 2F, or 2G to determine the gas volumetric flow rate.

• Method 3, 3A, or 3B for gas analysis to determine dry molecular weight. As an alternative to Method 3B, you may use ANSI/ASME PTC 19.10-1981, Flue and Exhaust Gas Analyses [Part 10, Instruments and Analyses].

• Method 4 to determine stack moisture.

• Method 25 or 25A to determine organic volatile matter concentration. In lieu of Method 25 or 25A, you may use Method 18 if you know the HAP constituents in the inlet and outlet gas streams and you quantify at least 90 percent of the organic compounds in the gas stream. Alternatively, any other test method or data that have been validated according to the applicable procedures in Method 301 of 40 CFR part 63, appendix A, and approved by the Administrator, could be used.

If you use a solvent recovery system and wish to calculate the mass of organic HAP emission reduction, you could determine the overall control efficiency using a liquid-liquid material balance instead of conducting an initial performance test. If you use the material balance alternative, you must measure the amount of all materials used in the affected source during the initial compliance period and determine the total mass of volatile matter contained in these materials. You must also measure the amount of volatile matter recovered by the solvent recovery system during the compliance period. Then you must compare the amount recovered to the amount used to determine the overall control efficiency, and apply this efficiency to the total amount of organic HAP for the materials used. You must record the calculations and results and include them in your Notification of Compliance Status when you present your calculations of the organic HAP emission rate.

Operating limits. In accordance with section 114(a) of the CAA, the operating limits would require the use of continuous parameter monitoring systems (CPMS) to ensure that sources are in compliance. The monitoring must be capable of detecting deviations with sufficient representativeness, accuracy, precision, reliability, frequency, and timeliness to determine if compliance is continuous during a reporting period.

As mentioned above, you must establish operating limits as part of the initial performance test of a capture system and control device, other than a solvent recovery system for which you conduct liquid-liquid material balances. The operating limits are the minimum or maximum (as applicable) values achieved for capture systems and control devices during the most recent performance test that demonstrated compliance with the emission limit.

B. Monitoring Requirements

According to paragraph (a)(3) of section 114 of the CAA, monitoring of stationary sources is required to determine the compliance status of the sources, and whether compliance is continuous or intermittent. For affected sources complying with the standards by using capture and control systems, initial compliance is determined through an initial performance test and ongoing compliance through continuous monitoring. We specify the operating parameters that need to be monitored for certain control devices used in the metal furniture surface coating industry. You must set the values of these parameters, which demonstrate compliance with the standards, during your initial performance test. These values are your operating limits. If future monitoring shows that capture and control equipment is operating outside the range of values established during the initial performance test, then you are deviating from the operating limits.

The rule specifies the parameters to monitor for the types of emission control systems commonly used in the industry. You are required to install, calibrate, maintain, and continuously operate all monitoring equipment according to manufacturer's specifications and ensure that the CPMS meet the requirements in § 63.4967 of the rule. If you use control devices other than those identified in the rule, you must submit the operating parameters to be monitored to the Administrator for approval. The authority to approve the parameters to be monitored is retained by EPA and is not delegated to States.

If you use a thermal or catalytic oxidizer, you must continuously monitor temperature and record it at least every 15 minutes. For thermal oxidizers, the temperature monitor is placed in the firebox or in the duct immediately downstream of the firebox before any substantial heat exchange occurs. The operating limit is the average temperature measured during the performance test, and during each 3-hour period the average temperature must be at or above this limit. For catalytic oxidizers, temperature monitors are placed immediately before and after the catalyst bed. The operating limits are the average combustion temperature just before the catalyst bed and the average temperature difference across the catalyst bed during the performance test, and for each 3-hour period the average combustion temperature and the average temperature difference must be at or above these limits. As an alternative for catalytic oxidizers, you may establish the temperature just before the catalyst bed as an operating parameter as described above and also develop and implement a site-specific inspection and maintenance plan for the oxidizer.

If you use a solvent recovery system, and do not conduct liquid-liquid material balances to demonstrate compliance, then you must monitor the carbon bed temperature after each regeneration and the total amount of steam or nitrogen used to desorb the bed for each regeneration. The operating limits are the minimum carbon bed temperature after the cooling cycle and the minimum amount of steam or nitrogen used for desorption.

If you use a condenser, you must monitor the outlet gas temperature to ensure that the air stream is being cooled to a low enough temperature. The operating limit is the average condenser outlet gas temperature measured during the performance test, and for each 3-hour period the average temperature must be at or below this limit.

For each capture system, you must establish operating limits for gas volumetric flow rate and pressure drop across an opening in each enclosure or capture device. The operating limits are the average volumetric flow rate and average pressure drop across the opening during the performance test, to be met as a minimum.

VI. What Notification, Recordkeeping, and Reporting Requirements Must I Follow?

The rule requires you to comply with notification, recordkeeping, and reporting requirements, generally as described in the General Provisions (see Table 2 of the rule) and specifically as designed to support demonstration of compliance with the rule. We believe that these requirements are necessary and sufficient to ensure that you comply with the requirements in the rule.

A. Initial Notification

If the rule applies to you, you must send an initial notification to the EPA Regional Office in the region where your facility is located and to your State agency. If you have an existing affected source, you must submit the initial notification no later than 1 year before the compliance date, which is May 23, 2006. If you have a new or reconstructed affected source, you must submit the notification no later than 120 days after either the date of initial start-up or May 23, 2006, whichever is later.

The initial notification notifies us and your State agency that you have an existing affected source that is subject to the standards or that you have constructed a new affected source. Thus, it allows you and the Federal or State enforcement agency to plan for compliance activities. The General Provisions specify the information you must include in the initial notification and other reporting requirements for both existing affected sources and new or reconstructed affected sources.

B. Notification of Performance Tests

If the rule applies to you, you have several options for demonstrating compliance. If you demonstrate compliance by using a capture and control system for which you do not conduct a monthly liquid-liquid material balance, you must conduct a performance test as described in the rule. Prior to conducting the performance test, you must notify us or the delegated State or local agency at least 60 calendar days before the performance test is scheduled to begin, as indicated in the General Provisions.

C. Notification of Compliance Status

Your compliance procedures depend on which compliance option you choose. For each compliance option, you must send us a Notification of Compliance Status within 30 days after the end of the initial compliance period. In the notification, you must certify whether the affected source has complied with the standards, identify the option you used to demonstrate initial compliance, summarize the data and calculations supporting the compliance demonstration, and describe how you will determine continuous compliance.

If you elect to comply by using a capture system and control device for which you conduct performance tests, you must provide the results of the tests. Your notification must also include the measured range of each monitored parameter and the operating limits established during the performance test, and information showing whether the source has achieved its operating limits during the initial compliance period.

D. Recordkeeping Requirements

You are required to keep records of reported information and all other information necessary to document compliance with the rule for 5 years. As required under § 63.10(b)(1) of the General Provisions, records for the 2 most recent years must be kept on-site; the other 3 years' records may be kept off-site. Records pertaining to the design and manufacturer's specifications for the operation of the add-on control equipment must be kept on-site for the life of the equipment. We corrected this oversight in the final rule. See § 63.4930(b) and § 63.4931(c).

Depending on the compliance option that you choose, you could need to keep records of the following:

• Organic HAP content, volatile matter content, coating solids content, and quantity of the coatings, thinners, and cleaning materials used during each compliance period;

• All documentation supporting initial notifications and notifications of compliance status.

If you demonstrate compliance by using a capture system and control device, you must keep records of the following:

• The occurrence and duration of each startup, shutdown, or malfunction of the emission capture system and control device;

• All maintenance performed on the capture system and control device;

• Actions taken during startup, shutdown, and malfunction that are different from the procedures specified in the affected source's startup, shutdown, and malfunction plan (SSMP);

• All information necessary to demonstrate conformance with the affected source's SSMP when the plan procedures are followed;

• All information necessary to demonstrate conformance with the affected source's plan for minimizing emissions from mixing, storage, and waste handling operations;

• Each period during which a CPMS is malfunctioning or inoperative (including out-of-control periods);

• All required measurements needed to demonstrate compliance with the standards; and

• All results of performance tests.

The rule requires you to collect and keep records according to certain minimum data requirements for the CPMS. Failure to collect and keep the specified minimum data is a deviation that is separate from any emission limit, operating limit, or work practice standard. A complete definition of what constitutes a deviation is provided in § 63.4981 of the final rule.

If you use a capture system and control device to reduce HAP emissions, you must make your SSMP available for inspection if the Administrator requests to see it. The plan must stay in your records for the life of the affected source or until the source is no longer subject to the standards. If you revise the plan, you must keep the previous superceded versions on record for 5 years following the revision.

E. Semiannual Reports

Each reporting year is divided into two semiannual reporting periods. You must submit a semiannual report after the end of each semiannual period. If no deviations occur during a semiannual reporting period, your semiannual compliance report must state that the affected source has been in compliance. A deviation, as defined in § 63.4891 of the final rule, is any instance in which you fail to meet any requirement or obligation of the standards or any term or condition adopted to meet the standards. The following information is required in semiannual compliance reports when deviations occur:

• If you are complying by using capture systems and add-on control devices, report all deviations from the operating parameter values established for the capture system and the control device operating parameters.

• If you are complying by using solvent recovery systems and liquid-liquid material balances, report material balance calculations for all months when the material balance deviated from the emission limit.

• If you are complying by using low-HAP coating materials, report all deviations from the emission limit.

• If you are complying by using a combination of capture and control systems with low-HAP coating materials, report all deviations from the emission limit and all deviations from operating parameters described above.

If any of the following events occur, you must report that event in the next semiannual report following the event:

• A change occurs at your facility or within your process that might affect its compliance status.

• A change from what was reported in the initial notice occurs at your facility or within your process.

• You decide to change to another emission limitation option.

• You had a startup, shutdown, or malfunction of an emission control device during the semiannual period and the actions taken were consistent with your SSMP.

VII. What Are the Environmental, Energy, and Economic Impacts of the Rule?

We developed model plants to aid in the estimation of the impacts the MACT floor level of control would have on the metal furniture industry. Three model plants distinguished by size, as measured by the total volume of coating solids used, were developed. We then estimated impacts for each model plant and scaled these individual impacts to nationwide levels based on the number of facilities corresponding to each model plant size. We used the model plant approach because we did not have adequate data to determine impacts for each actual facility.

A variety of compliance methods are available to the industry to meet the standards. We analyzed the information obtained from the industry questionnaire responses, industry site visits, trade groups, and industry representatives to determine which compliance methods would most likely be used by existing and new sources. We expect that the most widely used method would be low-HAP content liquid coatings (coatings with HAP contents at or below the emission limits) and lower-HAP cleaning materials. Powder coatings and add-on capture and control systems would likely be used to a lesser extent. Various combinations of these methods may be used. For the purpose of assessing impacts, we assumed that all existing sources would convert to lower-HAP content liquid coatings, thinners, and cleaning materials.

We first estimated the impacts of the emission limits on the three model plants. To scale up the model plant impacts to nationwide levels, we multiplied the individual model plant impacts by the estimated number of major sources in the United States corresponding to each model plant size. We used United States Census Bureau data as the basis for this estimate, which was a total of 655 facilities. For more information on how impacts were estimated, see Chapters 7 and 8 of the BID to the proposed standards, EPA-453/R-01-010, October 2001.

A. What Are the Air Impacts?

For existing major sources, we estimated that compliance with the emission limits would result in a reduction of nationwide organic HAP emissions of 14,800 Mg/yr (16,300 tpy). This represents a reduction of approximately 73 percent from the baseline organic HAP emissions of 20,300 Mg/yr (22,308 tpy).

We anticipate that all new sources will take steps to reduce their actual and potential HAP emissions to below the major source threshold and avoid becoming subject to the NESHAP. Therefore, we are not attributing any HAP emission reduction for new sources to the rule.

B. What Are the Cost Impacts?

An affected source may incur three types of costs to comply with the standards: Capital, direct, and indirect. Capital costs represent the one-time purchase of equipment. We have included coatings, thinners, and cleaning materials as direct costs incurred on a continuing basis for materials consumed in the manufacturing process. The cost of utilities, where applicable, is also included in the direct costs. Indirect costs typically include overhead, taxes, insurance, and administrative costs, as well as capital recovery costs.

Existing sources. To comply with the emission limits, we estimated that existing facilities would likely use reformulated coatings, thinners, and cleaning materials. No capital costs have been attributed to these compliance methods. We estimated full costs for 517 of the estimated 655 metal furniture surface coating facilities. Of the remaining 138 facilities, approximately 59 facilities would have only recordkeeping and reporting costs because these facilities would already be in compliance with the standards (based on questionnaire responses). We estimated that 79 facilities would achieve area source status before the compliance date of the final standards and will not incur compliance costs directly attributable to the rule.

We estimated no incremental costs associated with the use of lower-HAP coatings and thinners. Only the incremental cost of organic HAP-free cleaning materials over organic HAP cleaning materials was counted. The average annual cost for each facility incurring full costs is approximately $26,000. This value includes monitoring, recordkeeping, and reporting costs.

We estimated total nationwide annual costs in the 5th year to comply with the emission limits to be $14.8 million for existing sources. These costs include $4.66 million direct costs associated with material usage and $10.1 million for recordkeeping and reporting.

New sources. As previously stated in this preamble, we anticipate that all new sources will reduce potential HAP emissions to less than the major source threshold. All of these new sources will be areas sources not subject to the rule and will incur no costs directly attributable to the rule.

C. What Are the Economic Impacts?

We performed an economic impact analysis (EIA) to provide an estimate of the facility and market impacts of the standards as well as its social costs. In general, we expect the economic impacts of the standards to be minimal, with price increases and production decreases of less than 0.1 percent. Given the negligible market impacts of this rule, the social costs are expected to be roughly the same as the estimated engineering compliance costs of $14.8 million for existing sources.

For affected facilities, the distribution of costs is slanted toward the lower impact levels with many facilities incurring only those related to recordkeeping and reporting. The EIA indicates that these regulatory costs are expected to represent only 0.1 percent of the value of product shipments, which should not cause producers to cease or alter their current operations. Hence, no firms or facilities are expected to become at risk of closure because of the standards. International trade impacts would only occur for the metal household furniture segment of the industry, but the small price increase (that is, 0.04 percent) on this segment indicates negligible impacts, if any. Based on the projected characteristics and costs for new sources, we do not expect any differential impacts on these sources. For more information, refer to the “Economic Impact Analysis of the Proposed NESHAP: Surface Coating of Metal Furniture” (Docket ID No OAR-2002-0048, formerly Docket No. A-97-40).

D. What Are the Nonair Health, Environmental, and Energy Impacts?

Based on information from the industry questionnaire responses, there was no indication that the use of low-organic-HAP content coatings, thinners, and cleaning materials would result in any increase or decrease in nonair health, environmental, and energy impacts. There would be no change in the utility requirements associated with the use of these materials, so there would be no change in the amount of energy consumed as a result of the material conversion. Also, we estimate that there would be no significant change in the amount of materials used or the amount of waste produced and there would be no additional energy requirements for affected sources.

VIII. Statutory and Executive Order Reviews

A. Executive Order 12866, Regulatory Planning and Review

Under Executive Order 12866 (58 FR 51735, October 4, 1993), EPA must determine whether the regulatory action is “significant” and therefore subject to Office of Management and Budget (OMB) review and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligation of recipients thereof; or

(4) Raise novel legal or policy issues arising out of legal mandates, the President's priorities, or the principles set forth in the Executive Order.

It has been determined that this rule is not a “significant regulatory action” under the terms of Executive Order 12866 and is therefore not subject to OMB review.

B. Paperwork Reduction Act

The information collection requirements in the rule have been submitted for approval to OMB under the Paperwork Reduction Act, 44 U.S.C. 3501, et seq. An Information Collection Request (ICR) document has been prepared by EPA (ICR No. 1952.02) and a copy may be obtained from Susan Auby by mail at the Collection Strategies Division (2822T), U.S. EPA, 1200 Pennsylvania Avenue, NW., Washington, DC 20460, by e-mail at auby.susan@epa.gov, or by calling (202) 566-1672. A copy may also be downloaded off the Internet at http://www.epa.gov/icr. The information requirements are not effective until OMB approves them.

The information requirements are based on notification, recordkeeping, and reporting requirements in the NESHAP General Provisions (40 CFR part 63, subpart A), which are mandatory for all operators subject to national emission standards. These recordkeeping and reporting requirements are specifically authorized by section 114 of the CAA (42 U.S.C. 7414). All information submitted to EPA pursuant to the recordkeeping and reporting requirements for which a claim of confidentiality is made is safeguarded according to Agency policies set forth in 40 CFR part 2, subpart B.

The rule would require maintaining records of all coatings, thinners, and cleaning materials data and calculations used to determine compliance. This information includes the volume used during each monthly compliance period, mass fraction organic HAP, density, and, for coatings only, volume fraction solids.

If an add-on control device is used, records must be kept of the capture efficiency of the capture system, destruction or removal efficiency of the add-on control device, and the monitored operating parameters. In addition, records must be kept of each calculation of the affected sourcewide emissions for each monthly compliance period and all data, calculations, test results, and other supporting information used to determine this value.

The monitoring, recordkeeping, and reporting burden in the 5th year after the effective date of the promulgated rule is estimated to be approximately 159,000 labor hours at a cost of approximately $10 million for existing sources. We estimate that no cost will be incurred by new sources (other than the labor costs associated with initially reading the rule) because we anticipate that all new sources will reduce their potential HAP emissions to less than the major source threshold. Thus, as area sources, these new sources will not be subject to the rule.

Although we estimated no cost will be incurred by new sources, they may incur some level of cost to achieve area source status. Typically these costs would be associated with the differential in cost between conventional liquid coatings and the coating technology they use to reduce organic HAP emissions. For example, we have limited data indicating that the cost of powder coatings in terms of dollars per liter coating solids is higher than most liquid coatings. New sources would also incur some costs to initially read the rule to determine whether it applies to them (we estimated this cost to be about $300 per facility). A cost savings will be realized by new sources because they will not have the recordkeeping, reporting, and monitoring burden as described above for existing sources. While all of these potential costs and savings are difficult to quantify, we believe that in the balance there will be essentially no cost to new facilities.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations are listed in 40 CFR part 9 and 48 CFR, chapter 15. The OMB control number for the information collection requirements in this rule will be listed in an amendment to 40 CFR part 9 in a subsequent Federal Register document after OMB approves the ICR.

C. Regulatory Flexibility Act (RFA)

The EPA has determined that it is not necessary to prepare a regulatory flexibility analysis in connection with the final rule. The EPA has also determined that the rule will not have a significant economic impact on a substantial number of small entities. For purposes of assessing the impacts of today's rule on small entities, small entity is defined as: (1) A small business ranging from 100 to 1,000 employees, according to Small Business Administration size standards established under the NAICS for the industries affected by today's rule; (2) a small governmental jurisdiction that is a government of a city, county, town, school district or special district with a population of less than 50,000; and (3) a small organization that is any not-for-profit enterprise which is independently owned and operated and is not dominant in its field.

After considering the economic impacts of today's final rule on small entities, EPA has concluded that this action will not have a significant economic impact on a substantial number of small entities.

In accordance with the RFA and SBREFA, EPA conducted an assessment of the standards on small businesses within the metal furniture surface coating industry. Based on Small Business Administration size definitions and reported sales and employment data, EPA's survey identified 10 of the 24 companies owning metal furniture surface coating facilities as small businesses. Although small businesses represent almost 42 percent of the companies within the source category, they are expected to incur 12 percent of the total industry compliance costs. Under the standards, the average annual compliance cost share of sales for small businesses is 0.18 percent, with two of the ten small businesses not expected to incur any additional costs because they are permitted as synthetic minor HAP emission sources. In addition, small businesses in this industry typically have 5 percent profit margins. For more information, consult the docket for this project.

Although the final rule will not have a significant economic impact on a substantial number of small entities, EPA nonetheless has tried to reduce the impact of this rule on small entities. We solicited input from small entities during the data-gathering phase of the proposed rulemaking.

We have included compliance options in the rule which give small entities flexibility in choosing the most cost effective and least burdensome alternative for their operation. For example, a facility could purchase and use low-HAP coatings (i.e., pollution prevention) that meet the standards instead of using add-on capture and control systems. This method of compliance can be demonstrated with minimum burden by using purchase and usage records. No testing of materials would be required, as the facility owner could show that their coatings meet the emission limits by providing formulation data supplied by the manufacturer.

D. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that the rule does not contain a Federal mandate that may result in expenditures of $100 million or more to State, local, and tribal governments, in the aggregate, or the private sector in any 1 year. The maximum total annual cost of the rule for any year has been estimated to be about $15 million. Thus, today's rule is not subject to the requirements of sections 202 and 205 of the UMRA. In addition, EPA has determined that the standards contains no regulatory requirements that might significantly or uniquely affect small governments because it contains no requirements that apply to such governments or impose obligations upon them. This rule contains requirements that may apply to State government correctional institutions that manufacture or repair metal furniture. However, these requirements do not uniquely or significantly affect those institutions. Therefore, today's rule is not subject to the requirements of section 203 of the UMRA.

E. Executive Order 13132, Federalism

Executive Order 13132, entitled “Federalism” (64 FR 43255, August 10, 1999), requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

The final rule does not have federalism implications. It will not have substantial direct effects on the States, on the relationship between the national government and the States, or on the distribution of power and responsibilities among the various levels of government, as specified in Executive Order 13132. Thus, Executive Order 13132 does not apply to the rule. Although section 6 of Executive Order 13132 does not apply to the rule, EPA did consult with State and local officials to enable them to provide timely input in the development of the rule.

F. Executive Order 13175, Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” The final rule does not have tribal implications, as specified in Executive Order 13175. No tribal governments own or operate metal furniture surface coating facilities. Thus, Executive Order 13175 does not apply to this rule.

G. Executive Order 13045, Protection of Children From Environmental Health Risks and Safety Risks

Executive Order 13045, “Protection of Children from Environmental Health Risks and Safety Risks” (62 FR 19885, April 23, 1997), applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. This rule is not subject to Executive Order 13045 because it is based on technology performance and not on health or safety risks. Furthermore, the rule has been determined not to be “economically significant” as defined under Executive Order 12866.

H. Executive Order 13211, Actions Concerning Regulations That Significantly Affect Energy Supply, Distribution, or Use

The final rule is not subject to Executive Order 13211, “Actions Concerning Regulations that Significantly Affect Energy Supply, Distribution, or Use” (66 FR 28355, May 22, 2001), because it is not a significant regulatory action under Executive Order 12866.

I. National Technology Transfer and Advancement Act

As noted in the proposed rule, Section 12(d) of the National Technology Transfer and Advancement Act (NTTAA) of 1995, Public Law No. 104-113, (15 U.S.C. 272 note) directs EPA to use voluntary consensus standards (VCS) in its regulatory activities unless to do so would be inconsistent with applicable law or otherwise impractical. The VCS are technical standards (e.g., materials specifications, test methods, sampling procedures, and business practices) that are developed or adopted by VCS bodies. The NTTAA directs EPA to provide Congress, through OMB, explanations when the Agency decides not to use available and applicable VCS.

This rulemaking involves technical standards. The EPA cites the following standards in this rule: EPA Methods 1, 1A, 2, 2A, 2C, 2D, 2F, 2G, 3, 3A, 3B, 4, 24, 25, 25A, 204, 204A-F, and 311; and Performance Specifications (PS) 6, 8, and 9. Consistent with the NTTAA, EPA conducted searches to identify VCS in addition to these EPA methods/performance specifications. No applicable VCS were identified for EPA Methods 1A, 2A, 2D, 2F, 2G, 204, 204A through 204F, and 311, and PS 6, 8, and 9. The search and review results have been documented and are placed in the docket (Docket ID No OAR-2002-0048, formerly Docket No. A-97-40) for the rule.

The three VCS were identified as acceptable alternatives to EPA test methods for the purposes of the rule.

The VCS ANSI/ASME PTC 19.10-1981, “Flue and Exhaust Gas Analyses [Part 10, Instruments and Apparatus],” is cited in this rule for its manual method for measuring the oxygen, carbon dioxide, and carbon monoxide content of exhaust gas. This part of ANSI/ASME PTC 19.10-1981, Part 10, is an acceptable alternative to Method 3B.

The two VCS, ASTM D2697-86 (Reapproved 1998), “Standard Test Method for Volume Nonvolatile Matter in Clear or Pigmented Coatings,” and ASTM D6093-97, “Standard Test Method for Percent Volume Nonvolatile Matter in Clear or Pigmented Coatings Using a Helium Gas Pycnometer,” are cited in this rule as acceptable alternatives to EPA Method 24 for measuring volume of solids in coatings. Currently, Method 24 does not have a procedure for determining the volume of solids in coatings. These standards augment the procedures in EPA Method 24, which states that volume solids content be calculated from the coating manufacturer's formulation.

Six VCS: ASTM D1475-90, ASTM D2369-95, ASTM D3792-91, ASTM D4017-96a, ASTM D4457-85 (Reapproved 1991), and ASTM D5403-93 are already incorporated by reference (IBR) in EPA Method 24. Five VCS: ASTM D1979-91, ASTM D3432-89, ASTM D4747-87, ASTM D4827-93, and ASTM PS9-94 are IBR in EPA Method 311.

In addition to the VCS EPA uses in the rule, the search for emissions measurement procedures identified 14 other VCS. The EPA determined that 11 of these 14 standards identified for measuring emissions of the HAP or surrogates subject to emission standards in the rule were impractical alternatives to EPA test methods for the purposes of this rule. Therefore, EPA does not intend to adopt these standards for this purpose. The reasons for this determination for the 11 methods are discussed in the docket.

J. Congressional Review Act

The Congressional Review Act, 5 U.S.C. § 801, et seq., as added by the SBREFA of 1996, generally provides that before a rule may take effect, the agency promulgating the rule must submit a rule report, which includes a copy of the rule, to each House of the Congress and to the Comptroller General of the United States. The EPA will submit a report containing the rule and other required information to the United States Senate, the United States House of Representatives, and the Comptroller General of the United States prior to publication of the rule in the Federal Register. A major rule cannot take effect until 60 days after it is published in the Federal Register. This action is not a “major rule” as defined by 5 U.S.C. § 804(2). The rule will be effective May 23, 2003.

List of Subjects in 40 CFR Part 63

Environmental protection, Air pollution control, Hazardous substances, Incorporation by reference, Intergovernmental relations, Reporting and recordkeeping requirements.

Dated: February 28, 2003.
Christine T. Whitman,
Administrator.

For the reasons set out in the preamble, title 40, chapter I, part 63 of the Code of Federal Regulations is amended as follows:

PART 63—[AMENDED]

1. The authority citation for part 63 continues to read as follows:

Authority: 42 U.S.C. 7401, et seq.

2. Part 63 is amended by revising paragraphs (b)(24) and (25) and paragraph (i)(3) to § 63.14 of subpart A. The revisions read as follows:

§ 63.14 Incorporations by Reference

* * * * *

(b) * * *

(24) ASTM D2697-86 (Reapproved 1998), “Standard Test Method for Volume Nonvolatile Matter in Clear or Pigmented Coatings,” IBR approved for §§ 63.4141(b)(1), 63.4941(b)(1), and 63.5160(c).

(25) ASTM D6093-97, “Standard Test Method for Percent Volume Nonvolatile Matter in Clear or Pigmented Coatings Using a Helium Gas Pycnometer,” IBR approved for §§ 63.4141(b)(1), 63.4941(b)(1), and 63.5160(c).

* * * * *

(i) * * *

(3) ANSI/ASME PTC 19.10-1981, “Flue and Exhaust Gas Analyses [Part 10, Instruments and Apparatus],” IBR approved for §§ 63.865(b), 63.3360(e)(1)(iii), 63.4166(a)(3), 63.4965(a)(3), and 63.5160(d)(1)(iii).

* * * * *

3. Part 63 is amended by adding subpart RRRR to read as follows:

Subpart RRRR—National Emission Standards for Hazardous Air Pollutants: Surface Coating of Metal Furniture

Sec.
What This Subpart Covers
63.4880 What is the purpose of this subpart?
63.4881 Am I subject to this subpart?
63.4882 What parts of my plant does this subpart cover?
63.4883 When do I have to comply with this subpart?
Emission Limitations
63.4890 What Emission Limits Must I Meet?
63.4891 What are my options for demonstrating compliance with the emission limits?
63.4892 What operating limits must I meet?
63.4893 What work practice standards must I meet?
General Compliance Requirements
63.4900 What are my general requirements for complying with this subpart?
63.4901 What parts of the General Provisions apply to me?
Notifications, Reports, and Records
63.4910 What notifications must I submit?
63.4920 What reports must I submit?
63.4930 What records must I keep?
63.4931 In what form and for how long must I keep my records?
Compliance Requirements for the Compliant Material Option
63.4940 By what date must I conduct the initial compliance demonstration?
63.4941 How do I demonstrate initial compliance with the emission limitations?
63.4942 How do I demonstrate continuous compliance with the emission limitations?
Compliance Requirements for the Emission Rate Without Add-On Controls Option
63.4950 By what date must I conduct the initial compliance demonstration?
63.4951 How do I demonstrate initial compliance with the emission limitations?
63.4952 How do I demonstrate continuous compliance with the emission limitations?
Compliance Requirements for the Emission Rate With Add-On Controls Option
63.4960 By what date must I conduct performance tests and other initial compliance demonstrations?
63.4961 How do I demonstrate initial compliance?
63.4962 How do I demonstrate continuous compliance with the emission limitations?
63.4963 What are the general requirements for performance tests?
63.4964 How do I determine the emission capture system efficiency?
63.4965 How do I determine the add-on control device emission destruction or removal efficiency?
63.4966 How do I establish the emission capture system and add-on control device operating limits during the performance test?
63.4967 What are the requirements for continuous parameter monitoring system installation, operation, and maintenance?
Other Requirements and Information
63.4980 Who implements and enforces this subpart?
63.4981 What definitions apply to this subpart?
Tables to Subpart RRRR of Part 63
Table 1 to Subpart RRRR of Part 63. Operating Limits if Using the Emission Rate with Add-on Controls Option
Table 2 to Subpart RRRR of Part 63. Applicability of General Provisions to Subpart RRRR
Table 3 to Subpart RRRR of Part 63. Default Organic HAP Mass Fraction for Solvents and Solvent Blends
Table 4 to Subpart RRRR of Part 63. Default Organic HAP Mass Fraction for Petroleum Solvent Groups

Subpart RRRR—National Emission Standards for Hazardous Air Pollutants: Surface Coating of Metal Furniture

What This Subpart Covers

§ 63.4880 What is the purpose of this subpart?

This subpart establishes national emission standards for hazardous air pollutants (NESHAP) for metal furniture surface coating facilities. This subpart also establishes requirements to demonstrate initial and continuous compliance with the emission limitations.

§ 63.4881 Am I subject to this subpart?

(a) Except as provided in paragraph (c) of this section, the source category to which this subpart applies is surface coating of metal furniture.

(1) Surface coating is the application of coatings to a substrate using, for example, spray guns or dip tanks.

(2) Metal furniture means furniture or components of furniture constructed either entirely or partially from metal. Metal furniture includes, but is not limited to, components of the following types of products as well as the products themselves: household, office, institutional, laboratory, hospital, public building, restaurant, barber and beauty shop, and dental furniture; office and store fixtures; partitions; shelving; lockers; lamps and lighting fixtures; and wastebaskets.

(b) You are subject to this subpart if you own or operate a new, reconstructed, or existing affected source as defined in § 63.4882, in the source category defined in paragraph (a) of this section, and that is a major source, is located at a major source, or is part of a major source of emissions of hazardous air pollutants (HAP). A major source of HAP emissions is any stationary source or group of stationary sources located within a contiguous area and under common control that emits or has the potential to emit any single HAP at a rate of 9.07 megagrams (Mg) (10 tons) or more per year or any combination of HAP at a rate of 22.68 Mg (25 tons) or more per year.

(c) This subpart does not apply to surface coating that meets any of the criteria of paragraphs (c)(1) through (6) of this section.

(1) Surface coating conducted at an affected source that uses only coatings, thinners, and cleaning materials that contain no organic HAP.

(2) Surface coating of metal components of wood furniture conducted in an operation that is subject to the wood furniture manufacturing NESHAP in subpart JJ of this part.

(3) Surface coating that occurs at research or laboratory facilities or that is part of janitorial, building, and facility maintenance operations.

(4) Surface coating of only small items such as knobs, hinges, or screws that have a wider use beyond metal furniture are not subject to this subpart unless the surface coating occurs at an affected metal furniture source.

(5) Surface coating of metal furniture conducted for the purpose of repairing or maintaining metal furniture used by a major source and not for commerce is not subject to this subpart, unless organic HAP emissions from the surface coating itself are as high as the rates specified in paragraph (b) of this section.

(6) Surface coating of metal furniture performed on-site at installations owned or operated by the Armed Forces of the United States (including the Coast Guard and the National Guard of any State).

§ 63.4882 What parts of my plant does this subpart cover?

(a) This subpart applies to each new, reconstructed, and existing affected source.

(b) The affected source is the collection of all of the items listed in paragraphs (b)(1) through (4) of this section that are used for surface coating of metal furniture:

(1) All coating operations as defined in § 63.4981;

(2) All storage containers and mixing vessels in which coatings, thinners, and cleaning materials are stored or mixed;

(3) All manual and automated equipment and containers and all pumps and piping within the affected source used for conveying coatings, thinners, and cleaning materials; and

(4) All storage containers, all pumps and piping, and all manual and automated equipment and containers within the affected source used for conveying waste materials generated by a coating operation.

(c) An affected source is a new affected source if you commenced its construction after April 24, 2002, and the construction is of a completely new metal furniture surface coating facility where previously no metal furniture surface coating facility had existed.

(d) An affected source is reconstructed if you meet the criteria as defined in § 63.2.

(e) An affected source is existing if it is not new or reconstructed.

§ 63.4883 When do I have to comply with this subpart?

The date by which you must comply with this subpart is called the compliance date. The compliance date for each type of affected source is specified in paragraphs (a) through (c) of this section. The compliance date begins the initial compliance period during which you conduct the initial compliance demonstration described in §§ 63.4940, 63.4950, and 63.4960.

(a) For a new or reconstructed affected source, the compliance date is the applicable date in paragraph (a)(1) or (2) of this section:

(1) If the initial startup of your new or reconstructed affected source is before May 23, 2003, the compliance date is May 23, 2003.

(2) If the initial startup of your new or reconstructed affected source occurs after May 23, 2003, the compliance date is the date of initial startup of your affected source.

(b) For an existing affected source, the compliance date is the date 3 years after May 23, 2003.

(c) For an area source that increases its emissions or its potential to emit such that it becomes a major source of HAP emissions, the compliance date is specified in paragraphs (c)(1) and (2) of this section.

(1) For any portion of the source that becomes a new or reconstructed affected source subject to this subpart, the compliance date is the date of initial startup of the affected source or May 23, 2003, whichever is later.

(2) For any portion of the source that becomes an existing affected source subject to this subpart, the compliance date is the date 1 year after the area source becomes a major source or 3 years after May 23, 2003, whichever is later.

(d) You must meet the notification requirements in § 63.4910 according to the dates specified in that section and in subpart A of this part. Some of the notifications must be submitted before the compliance dates described in paragraphs (a) through (c) of this section.

Emission Limitations

§ 63.4890 What emission limits must I meet?

(a) For a new or reconstructed affected source, you must emit no organic HAP during each compliance period, determined according to the procedures in § 63.4941.

(b) Alternative emission limit. You may request approval from the Administrator to use an alternative new source emission limit for specific metal furniture components or type of components for which you believe the emission limit in paragraph (a) of this section cannot be achieved.

(1) Any request to use an alternative emission limit under paragraph (b) of this section must contain specific information demonstrating why no organic HAP-free coating technology can be used on the metal furniture components. The request must be based on objective criteria related to the performance or appearance requirements of the finished coating, which may include but is not limited to the criteria listed in paragraphs (b)(1)(i) through (viii) of this section.

(i) Low dried film thickness requirements (e.g., less than 0.0254 millimeters (0.001 inch)).

(ii) Flexibility requirements for parts subject to repeated bending.

(iii) Chemical resistance to withstand chemical exposure in environments such as laboratories.

(iv) Resistance to the effects of exposure to ultraviolet light.

(v) Adhesion characteristics related to the condition of the substrate.

(vi) High gloss requirements.

(vii) Custom colors such as matching the color of a corporate logo.

(viii) Non-uniform surface finishes such as an antique appearance that requires visible cracking of the dried film.

(2) If the request to use an alternative emission limit under paragraph (b) of this section is approved, the new source must meet an emission limit of 0.094 kilogram (kg) organic HAP per liter (kg/liter) (0.78 pounds per gallon (lb/gal)) coating solids used for only those components subject to the approval. All other metal furniture surface coating operations at the new source must meet the emission limit specified in paragraph (a) of this section. Until approval to use the alternative emission limit has been granted by the Administrator under this paragraph (b)(2), you must meet the emission limit specified in paragraph (a) of this section and all other applicable requirements in this subpart.

(c) For an existing affected source, you must limit organic HAP emissions to the atmosphere to no more than 0.10 kg organic HAP per liter (0.83 lb/gal) of coating solids used during each compliance period, determined according to the procedures in § 63.4941, § 63.4951, or § 63.4961.

§ 63.4891 What are my options for demonstrating compliance with the emission limits?

You must include all coatings, thinners, and cleaning materials used in the affected source when determining whether the organic HAP emission rate is equal to or less than the applicable emission limit in § 63.4890. To make this determination, you must use at least one of the three compliance options listed in paragraphs (a) through (c) of this section. You may apply any of the compliance options to an individual coating operation or to multiple coating operations as a group or to the entire affected source. You may use different compliance options for different coating operations or at different times on the same coating operation. However, you may not use different compliance options at the same time on the same coating operation. If you switch between compliance options for any coating operation or group of coating operations, you must document this switch as required by § 63.4930(c), and you must report it in the next semiannual (6-month period) compliance report required in § 63.4920.

(a) Compliant material option. Demonstrate that the organic HAP content of each coating used in the coating operation or group of coating operations is less than or equal to the applicable emission rate limit in § 63.4890 and that each thinner and each cleaning material used contains no organic HAP. You must meet all the requirements of §§ 63.4940, 63.4941, and 63.4942 to demonstrate compliance with the emission limit using this option.

(b) Emission rate without add-on controls option. Demonstrate that, based on the coatings, thinners, and cleaning materials used in the coating operation or group of coating operations, the organic HAP emission rate for the coating operation or group of coating operations is less than or equal to the applicable emission rate limit in § 63.4890, calculated as a monthly emission rate. You must meet all the requirements of §§ 63.4950, 63.4951, and 63.4952 to demonstrate compliance with the emission rate limit using this option.

(c) Emission rate with add-on controls option. Demonstrate that, based on the coatings, thinners, and cleaning materials used in the coating operation or group of coating operations, and the emission reductions achieved by emission capture and add-on control systems, the organic HAP emission rate is less than or equal to the applicable emission rate limit in § 63.4890, calculated as a monthly emission rate. If you use this compliance option, you must also demonstrate that all capture systems and add-on control devices for the coating operation or group of coating operations meet the operating limits required in § 63.4892, except for solvent recovery systems for which you conduct liquid-liquid material balances according to § 63.4961(j); and that you meet the work practice standards required in § 63.4893. You must meet all the requirements of §§ 63.4960 through 63.4967 to demonstrate compliance with the emission limits, operating limits, and work practice standards using this option.

(d) If you choose to use the emission rate with add-on controls compliance option in paragraph (c) of this section and operate the coating operation, its emission capture system, or its add-on control device at multiple sets of representative operating conditions that result in different capture system or add-on control device efficiencies during a compliance period, you must follow one of the procedures in paragraph (d)(1) or (2) of this section.

(1) Determine the operating conditions that result in the lowest emission capture system and add-on control device efficiencies through performance testing conducted according to §§ 63.4963, 63.4964, and 63.4965. Use these emission capture system and add-on control device efficiencies for all representative operating conditions during the compliance period.

(2) Develop a compliance calculation procedure for determining the organic HAP emission rate for the compliance period that takes into account all of the representative operating conditions the source was operated under during the compliance period and submit the procedure to the Administrator for approval. Until you receive approval from the Administrator, you must determine compliance according to paragraph (c) of this section.

§ 63.4892 What operating limits must I meet?

(a) For any coating operation or group of coating operations for which you use the compliant material option or the emission rate without add-on controls option to demonstrate compliance, you are not required to meet any operating limits.

(b) For any coating operation or group of coating operations for which you use the emission rate with add-on controls option to demonstrate compliance, except those for which you use a solvent recovery system and conduct a liquid-liquid material balance according to § 63.4961(j), you must meet the operating limits specified in Table 1 to this subpart. These operating limits apply to the emission capture and control systems on the coating operation or group of coating operations for which you use emission capture and add-on controls to demonstrate compliance. You must establish the operating limits during the performance test according to the requirements in § 63.4966. You must meet the operating limits at all times after you establish them.

(c) If you use an add-on control device other than those listed in Table 1 to this subpart, or wish to monitor an alternative parameter and comply with a different operating limit, you must apply to the Administrator for approval of alternative monitoring under § 63.8(f).

§ 63.4893 What work practice standards must I meet?

(a) For any coating operation or group of coating operations for which you use the compliant material option or the emission rate without add-on controls option to demonstrate compliance, you are not required to meet any work practice standards.

(b) For any coating operation or group of coating operations for which you use the emission rate with add-on controls option to demonstrate compliance, you must develop and implement a work practice plan to minimize organic HAP emissions from the storage, mixing, and conveying of coatings, thinners, and cleaning materials used in, and waste materials generated by, the coating operation or group of coating operations for which you use this option; or you must meet an alternative standard as provided in paragraph (c) of this section. The plan must specify practices and procedures to ensure that, at a minimum, the elements specified in paragraphs (b)(1) through (5) of this section are implemented.

(1) All organic-HAP-containing coatings, thinners, cleaning materials, and waste materials must be stored in closed containers. You must ensure that these containers are kept closed at all times except when depositing or removing these materials from the container.

(2) Spills of organic-HAP-containing coatings, thinners, cleaning materials, and waste materials must be minimized.

(3) Organic-HAP-containing coatings, thinners, cleaning materials, and waste materials must be conveyed from one location to another in closed containers or pipes.

(4) Mixing vessels which contain organic-HAP-containing coatings and other materials must be closed except when adding to, removing, or mixing the contents.

(5) Emissions of organic HAP must be minimized during cleaning of storage, mixing, and conveying equipment.

(c) As provided in § 63.6(g), the Administrator may choose to grant you permission to use an alternative to the work practice standards in this section.

General Compliance Requirements

§ 63.4900 What are my general requirements for complying with this subpart?

(a) The affected source must be in compliance at all times with the emission limitations specified in § 63.4890.

(b) You must always operate and maintain your affected source, including all air pollution control and monitoring equipment you use for purposes of complying with this subpart, according to the provisions in § 63.6(e)(1)(i).

(c) If your affected source uses an emission capture system and add-on control device to comply with the emission limitations in § 63.4890, you must develop and implement a written startup, shutdown, and malfunction plan (SSMP) according to the provisions in § 63.6(e)(3). The SSMP must address the startup, shutdown, and corrective actions in the event of a malfunction of the emission capture system or the add-on control device. The SSMP must also address any coating operation equipment that may cause increased emissions or that would affect capture efficiency if the process equipment malfunctions, such as conveyors that move parts among enclosures.

§ 63.4901 What parts of the General Provisions apply to me?

Table 2 to this subpart shows which parts of the General Provisions in §§ 63.1 through 63.15 apply to you.

Notifications, Reports, and Records

§ 63.4910 What notifications must I submit?

(a) General. You must submit the notifications in §§ 63.7(b) and (c), 63.8(f)(4), and 63.9(b) through (e), (h), and (j) that apply to you by the dates specified in those sections, except as provided in paragraphs (b) and (c) of this section.

(b) Initial Notification. You must submit the Initial Notification required by § 63.9(b) for a new or reconstructed affected source no later than 120 days after initial startup or 120 days after May 23, 2003, whichever is later. For an existing affected source, you must submit the Initial Notification no later than 1 year after May 23, 2003.

(c) Notification of Compliance Status. You must submit the Notification of Compliance Status required by § 63.9(h) no later than 30 calendar days following the end of the initial compliance period described in § 63.4940, § 63.4950, or § 63.4960 that applies to your affected source. The Notification of Compliance Status must contain the information specified in paragraphs (c)(1) through (9) of this section and the applicable information specified in § 63.9(h).

(1) Company name and address.

(2) Statement by a responsible official with that official's name, title, and signature, certifying the truth, accuracy, and completeness of the report. Such certifications must also comply with the requirements of 40 CFR 70.5(d) or 40 CFR 71.5(d).

(3) Date of the report and beginning and ending dates of the reporting period. The reporting period is the initial compliance period described in § 63.4940, § 63.4950, or § 63.4960 that applies to your affected source.

(4) Identification of the compliance option or options specified in § 63.4891 that you used on each coating operation in the affected source during the initial compliance period and that you will use for demonstrating continuous compliance.

(5) Statement of whether or not the affected source achieved the emission limitations for the initial compliance period.

(6) If you had a deviation, include the information in paragraphs (c)(6)(i) and (ii) of this section.

(i) A description and statement of the cause of the deviation.

(ii) If you failed to meet the applicable emission limit in § 63.4890, include all the calculations you used to determine compliance. You do not need to submit information provided by material suppliers or manufacturers or test reports.

(7) For each of the data items listed in paragraphs (c)(7)(i) through (iv) of this section that is required by the compliance option(s) you used to demonstrate compliance with the emission limit, include an example of how you determined the value, including calculations and supporting data. Supporting data can include a copy of the information provided by the supplier or manufacturer of the example coating or material or a summary of the results of testing conducted according to § 63.4941(a), (b), or (c). You do not need to submit copies of any test reports.

(i) Mass fraction of organic HAP for one coating, for one thinner, and for one cleaning material.

(ii) Volume fraction of coating solids for one coating.

(iii) Density for one coating, one thinner, and one cleaning material, except that if you use the compliant material option, only the example coating density is required.

(iv) The amount of waste materials and the mass of organic HAP contained in the waste materials for which you are claiming an allowance in Equation 1 of § 63.4951.

(8) The calculation of the organic HAP emission rate for the compliance option(s) you used, as specified in paragraphs (c)(8)(i) through (iii) of this section.

(i) For the compliant materials option, provide an example calculation of the organic HAP content for one coating, using Equation 2 of § 63.4941.

(ii) For the emission rate without add-on controls option, provide the information specified in paragraphs (c)(8)(ii)(A) through (C) of this section.

(A) The calculation of the total mass of organic HAP emissions during the initial compliance period, using Equation 1 of § 63.4951.

(B) The calculation of the total volume of coating solids used during the initial compliance period, using Equation 2 of § 63.4951.

(C) The calculation of the organic HAP emission rate for the initial compliance period, using Equation 3 of § 63.4951.

(iii) For the emission rate with add-on controls option, provide the information specified in paragraphs (c)(8)(iii)(A) through (D) of this section.

(A) The calculation of the total mass of organic HAP emissions for the coatings, thinners, and cleaning materials used during the initial compliance period, using Equation 1 of § 63.4951.

(B) The calculation of the total volume of coating solids used during the initial compliance period, using Equation 2 of § 63.4951.

(C) The calculation of the mass of organic HAP emission reduction during the initial compliance period by emission capture systems and add-on control devices, using Equation 1 of § 63.4961, and the calculation of the mass of organic HAP emission reduction for the coating operations controlled by solvent recovery systems during each compliance period, using Equation 3 of § 63.4961 as applicable.

(D) The calculation of the organic HAP emission rate for the initial compliance period, using Equation 4 of § 63.4961.

(9) For the emission rate with add-on controls option, you must include the information specified in paragraphs (c)(9)(i) through (v) of this section. However, the requirements in paragraphs (c)(9)(i) through (iii) of this section do not apply to solvent recovery systems for which you conduct liquid-liquid material balances according to § 63.4961(j).

(i) For each emission capture system, a summary of the data and copies of the calculations supporting the determination that the emission capture system is a permanent total enclosure (PTE) or a measurement of the emission capture system efficiency. Include a description of the protocol followed for measuring capture efficiency, summaries of any capture efficiency tests conducted, and any calculations supporting the capture efficiency determination. If you use the data quality objective (DQO) or lower confidence limit (LCL) approach, you must also include the statistical calculations to show you meet the DQO or LCL criteria in appendix A to subpart KK of this part. You do not need to submit complete test reports.

(ii) A summary of the results of each add-on control device performance test. You do not need to submit complete test reports.

(iii) A list of each emission capture system's and add-on control device's operating limits and a summary of the data used to calculate those limits.

(iv) A statement of whether or not you developed and implemented the work practice plan required by § 63.4893.

(v) A statement of whether or not you developed and implemented the SSMP required by § 63.4900.

§ 63.4920 What reports must I submit?

(a) Semiannual compliance reports. You must submit semiannual compliance reports for each affected source according to the requirements of paragraphs (a)(1) through (7) of this section. The semiannual compliance reporting requirements may be satisfied by reports required under other parts of the Clean Air Act (CAA), such as those detailed in paragraph (a)(2) of this section.

(1) Dates. Unless the Administrator has approved a different schedule for submission of reports under § 63.10(a), you must prepare and submit each semiannual compliance report according to the dates specified in paragraphs (a)(1)(i) through (iv) of this section.

(i) The first semiannual compliance report must cover the first semiannual reporting period which begins the day after the end of the initial compliance period described in § 63.4940, § 63.4950, or § 63.4960 that applies to your affected source and ends on June 30 or December 31, whichever occurs first following the end of the initial compliance period.

(ii) Each subsequent semiannual compliance report must cover the subsequent semiannual reporting period from January 1 through June 30 or the semiannual reporting period from July 1 through December 31.

(iii) Each semiannual compliance report must be postmarked or delivered no later than July 31 or January 31, whichever date is the first date following the end of the semiannual reporting period.

(iv) For each affected source that is subject to permitting regulations pursuant to 40 CFR part 70 or 40 CFR part 71, and if the permitting authority has established dates for submitting 6-month monitoring reports pursuant to 40 CFR 70.6(a)(3)(iii)(A) or 40 CFR 71.6(a)(3)(iii)(A), you may submit the first and subsequent semiannual compliance reports according to the dates the permitting authority has established for the 40 CFR part 70 or 40 CFR part 71 6-month monitoring reports instead of according to the dates specified in paragraph (a)(1)(iii) of this section. However, under no circumstances shall the semiannual compliance report be submitted more than 30 days after the end of the semiannual reporting period established in paragraphs (a)(1)(i) and (ii) of this section.

(2) Inclusion with title V report. Each affected source that has obtained a title V operating permit pursuant to 40 CFR part 70 or 40 CFR part 71 must report all deviations as defined in this subpart in the 6-month monitoring report required by 40 CFR 70.6(a)(3)(iii)(A) or 40 CFR 71.6(a)(3)(iii)(A). If an affected source submits a semiannual compliance report pursuant to this section along with, or as part of, the 6-month monitoring report required by 40 CFR 70.6(a)(3)(iii)(A) or 40 CFR 71.6(a)(3)(iii)(A), and the semiannual compliance report includes all information required by the part 70 or part 71 6-month monitoring report concerning deviations from the requirements of this subpart as defined in § 63.4981, the submission of the semiannual compliance report shall be deemed to satisfy any obligation to report the same deviation information in the part 70 or part 71 6-month monitoring report. However, in such situations, the 6-month monitoring report must cross-reference the semiannual compliance report, and submission of a semiannual compliance report shall not otherwise affect any obligation the affected source may have to report deviations from permit requirements to the permitting authority.

(3) General requirements. The semiannual compliance report must contain the information specified in paragraphs (a)(3)(i) through (v) of this section, and the information specified in paragraphs (a)(4) through (7) and (c)(1) of this section that is applicable to your affected source.

(i) Company name and address.

(ii) Statement by a responsible official with that official's name, title, and signature, certifying the truth, accuracy, and completeness of the report. Such certifications must also comply with the requirements of 40 CFR 70.5(d) or 40 CFR 71.5(d)

(iii) Date of report and beginning and ending dates of the reporting period. The reporting period is the 6-month period ending on June 30 or December 31.

(iv) Identification of the compliance option or options specified in § 63.4891 that you used on each coating operation during the reporting period. If you switched between compliance options during the reporting period, you must report the beginning and ending dates you used each option.

(v) If you used the emission rate without add-on controls or the emission rate with add-on controls compliance option (§ 63.4891(b) or (c)), the calculation results for each organic HAP emission rate for each compliance period ending in the 6-month reporting period.

(4) No deviations. If there were no deviations from the emission limits, operating limits, and work practice standards in §§ 63.4890, 63.4892, and 63.4893, respectively, that apply to you, the semiannual compliance report must include an affirmative statement that there were no deviations from the emission limitations, operating limits, or work practice standards in §§ 63.4890, 63.4892, and 63.4893 during the reporting period. If there were no deviations from the emission limitations in § 63.4890, the semiannual compliance report must include the affirmative statement that is described in either § 63.4942(c), § 63.4952(c), or § 63.4962(f), as applicable. If you used the emission rate with add-on controls option and there were no periods during which the continuous parameter monitoring systems (CPMS) were out-of-control as specified in § 63.8(c)(7), the semiannual compliance report must include a statement that there were no periods during which the CPMS were out-of-control during the reporting period as specified in § 63.8(c)(7).

(5) Deviations: compliant material option. If you used the compliant material option, and there was a deviation from the applicable emission limit in § 63.4890, the semiannual compliance report must contain the information in paragraphs (a)(5)(i) through (iv) of this section.

(i) Identification of each coating used that deviated from the emission limit, and of each thinner and cleaning material used that contained organic HAP, and the dates and time periods each was used.

(ii) The calculation of the organic HAP content for each coating identified in paragraph (a)(5)(i) of this section, using Equation 2 of § 63.4941. You do not need to submit background data supporting this calculation, for example, information provided by materials suppliers or manufacturers, or test reports.

(iii) The determination of mass fraction of organic HAP for each coating, thinner, and cleaning material identified in paragraph (a)(5)(i) of this section. You do not need to submit background data supporting this calculation, for example, information provided by materials suppliers or manufacturers, or test reports.

(iv) A statement of the cause of each deviation.

(6) Deviations: emission rate without add-on controls option. If you used the emission rate without add-on controls option, and there was a deviation from any applicable emission limit in § 63.4890, the semiannual compliance report must contain the information in paragraphs (a)(6)(i) through (v) of this section. You do not need to submit background data supporting these calculations, for example, information provided by materials suppliers or manufacturers, or test reports.

(i) The beginning and ending dates of each compliance period during which the organic HAP emission rate exceeded the applicable emission limit in § 63.4890.

(ii) The calculation of the total mass of organic HAP emissions for each month, using Equations 1 of § 63.4951.

(iii) The calculation of the total volume of coating solids used each month, using Equation 2 of § 63.4951.

(iv) The calculation of the organic HAP emission rate for each month, using Equation 3 of § 63.4951.

(v) A statement of the cause of each deviation.

(7) Deviations: emission rate with add-on controls option. If you used the emission rate with add-on controls option, and there was a deviation from any applicable emission limitation (including any periods when emissions bypassed the add-on control device and were diverted to the atmosphere), the semiannual compliance report must contain the information in paragraphs (a)(7)(i) through (xvii) of this section. This includes periods of startup, shutdown, and malfunction during which deviations occurred. You do not need to submit background data supporting these calculations, for example, information provided by materials suppliers or manufacturers, or test reports.

(i) The beginning and ending dates of each compliance period during which the organic HAP emission rate exceeded the applicable emission limit in § 63.4890.

(ii) The calculation of the total mass of organic HAP emissions for the coatings, thinners, and cleaning materials used during each month, using Equation 1 of § 63.4951 and, if applicable, the calculation used to determine the total mass of organic HAP in waste materials sent or designated for shipment to a hazardous waste treatment, storage, and disposal facility (TSDF) for treatment or disposal during each compliance period, according to § 63.4951(e)(4).

(iii) The calculation of the total volume of coating solids used, using Equation 2 of § 63.4951.

(iv) The calculation of the mass of organic HAP emission reduction each month by emission capture systems and add-on control devices, using Equation 1 of § 63.4961, and Equation 3 of § 63.4961 for the calculation of the mass of organic HAP emission reduction for the coating operation controlled by solvent recovery systems each compliance period, as applicable.

(v) The calculation of the organic HAP emission rate for each compliance period, using Equation 4 of § 63.4961.

(vi) The date and time that each malfunction started and stopped.

(vii) A brief description of the CPMS.

(viii) The date of the latest CPMS certification or audit.

(ix) The date and time that each CPMS was inoperative, except for zero (low-level) and high-level checks.

(x) The date, time, and duration that each CPMS was out-of-control, including the information in § 63.8(c)(8).

(xi) The date and time period of each deviation from an operating limit in Table 1 to this subpart; date and time period of any bypass of the add-on control device; and whether each deviation occurred during a period of startup, shutdown, or malfunction or during another period.

(xii) A summary of the total duration of each deviation from an operating limit in Table 1 to this subpart and each bypass of the add-on control device during the semiannual reporting period and the total duration as a percent of the total affected source operating time during that semiannual reporting period.

(xiii) A breakdown of the total duration of the deviations from the operating limits in Table 1 to this subpart and bypasses of the add-on control device during the semiannual reporting period into those that were due to startup, shutdown, control equipment problems, process problems, other known causes, and other unknown causes.

(xiv) A summary of the total duration of CPMS downtime during the semiannual reporting period and the total duration of CPMS downtime as a percent of the total affected source operating time during that semiannual reporting period.

(xv) A description of any changes in the CPMS, coating operation, emission capture system, or add-on control device since the last semiannual reporting period.

(xvi) For each deviation from the work practice standards, a description of the deviation; the date and time period of the deviation; and the actions you took to correct the deviation.

(xvii) A statement of the cause of each deviation.

(b) Performance test reports. If you use the emission rate with add-on controls option, you must submit reports of performance test results for emission capture systems and add-on control devices no later than 60 days after completing the tests as specified in § 63.10(d)(2).

(c) Startup, shutdown, and malfunction reports. If you used the emission rate with add-on controls option and you had a startup, shutdown, or malfunction during the semiannual reporting period, you must submit the reports specified in paragraphs (c)(1) and (2) of this section.

(1) If your actions were consistent with your SSMP, you must include the information specified in § 63.10(d)(5) in the semiannual compliance report required by paragraph (a) of this section.

(2) If your actions were not consistent with your SSMP, you must submit an immediate startup, shutdown, and malfunction report as described in paragraphs (c)(2)(i) and (ii) of this section.

(i) You must describe the actions taken during the event in a report delivered by facsimile, telephone, or other means to the Administrator within 2 working days after starting actions that are inconsistent with the plan.

(ii) You must submit a letter to the Administrator within 7 working days after the end of the event, unless you have made alternative arrangements with the Administrator as specified in § 63.10(d)(5)(ii). The letter must contain the information specified in § 63.10(d)(5)(ii).

§ 63.4930 What records must I keep?

You must collect and keep records of the data and information specified in this section. Failure to collect and keep these records is a deviation from the applicable standard.

(a) A copy of each notification and report that you submitted to comply with this subpart, and the documentation supporting each notification and report.

(b) A current copy of information provided by materials suppliers or manufacturers. This would include records pertaining to the design and manufacturer's specifications for the life of the add-on control equipment. It would also include information such as manufacturer's formulation data for the materials used, or test data used to determine the mass fraction of organic HAP and density for each coating, thinner, and cleaning material and the volume fraction of coating solids for each coating. If you conducted testing to determine mass fraction of organic HAP, density, or volume fraction of coating solids, you must keep a copy of the complete test report. If you use information provided to you by the manufacturer or supplier of the material that was based on testing, you must keep the summary sheet of results provided to you by the manufacturer or supplier. You are not required to obtain the test report or other supporting documentation from the manufacturer or supplier.

(c) For each compliance period, the records specified in paragraphs (c)(1) through (4) of this section.

(1) A record of the coating operations at which you used each compliance option and the time periods (beginning and ending dates and times) you used each option.

(2) For the compliant material option, a record of the calculation of the organic HAP content for each coating, using Equation 2 of § 63.4941.

(3) For the emission rate without add-on controls option, a record of the calculation of the total mass of organic HAP emissions for the coatings, thinners, and cleaning materials used during each compliance period, using Equation 1 of § 63.4951 and, if applicable, the calculation used to determine the total mass of organic HAP in waste materials sent or designated for shipment to a hazardous waste TSDF for treatment or disposal during each compliance period, according to § 63.4951(e)(4); the calculation of the total volume of coating solids used during each compliance period, using Equation 2 of § 63.4951; and the calculation of the organic HAP emission rate for each compliance period, using Equation 3 of § 63.4951.

(4) For the emission rate with add-on controls option, records of the calculations specified in paragraphs (c)(4)(i) through (iv) of this section.

(i) The calculation of the total mass of organic HAP emissions for the coatings, thinners, and cleaning materials used during each compliance period, using Equation 1 of § 63.4951 and, if applicable, the calculation used to determine the total mass of organic HAP in waste materials sent or designated for shipment to a hazardous waste TSDF for treatment or disposal during each compliance period, according to § 63.4951(e)(4);

(ii) The calculation of the total volume of coating solids used during each compliance period, using Equation 2 of § 63.4951;

(iii) The calculation of the mass of organic HAP emission reduction by emission capture systems and add-on control devices, using Equation 1 of § 63.4961, and the calculation of the mass of organic HAP emission reduction for the coating operation controlled by a solvent recovery system during the compliance period, using Equation 3 of § 63.4961, as applicable;

(iv) The calculation of the organic HAP emission rate for each compliance period, using Equation 4 of § 63.4961.

(d) A record of the name and volume of each coating, thinner, and cleaning material used during each compliance period.

(e) A record of the mass fraction of organic HAP for each coating, thinner, and cleaning material used during each compliance period.

(f) A record of the volume fraction of coating solids for each coating used during each compliance period.

(g) If a determination of density is required by the compliance option(s) you used to demonstrate compliance with the emission limit, a record of the density for each coating used during each compliance period; and, if you use either the emission rate without add-on controls or the emission rate with add-on controls compliance option, the density for each thinner and cleaning material used during each compliance period.

(h) If you use an allowance in Equation 1 of § 63.4951 for organic HAP contained in waste materials sent to or designated for shipment to a TSDF according to § 63.4951(e)(4), you must keep records of the information specified in paragraphs (h)(1) through (3) of this section.

(1) The name and address of each TSDF to which you sent waste materials for which you use an allowance in Equation 1 of § 63.4951, a statement of which subparts under 40 CFR parts 262, 264, 265, and 266 apply to the facility, and the date of each shipment.

(2) Identification of the coating operations producing waste materials included in each shipment and the month or months in which you used the allowance for these materials in Equation 1 of § 63.4951.

(3) The methodology used in accordance with § 63.4951(e)(4) to determine the total amount of waste materials sent to or the amount collected, stored, and designated for transport to a TSDF each month; and the methodology to determine the mass of organic HAP contained in these waste materials. This must include the sources for all data used in the determination, methods used to generate the data, frequency of testing or monitoring, and supporting calculations and documentation, including the waste manifest for each shipment.

(i) [Reserved]

(j) You must keep records of the date, time, and duration of each deviation.

(k) If you use the emission rate with add-on controls option, you must keep the records specified in paragraphs (k)(1) through (8) of this section.

(1) For each deviation, a record of whether the deviation occurred during a period of startup, shutdown, or malfunction.

(2) The records in § 63.6(e)(3)(iii) through (v) related to startup, shutdown, and malfunction.

(3) The records required to show continuous compliance with each operating limit specified in Table 1 to this subpart that applies to you.

(4) For each capture system that is a PTE, the data and documentation you used to support a determination that the capture system meets the criteria in Method 204 of appendix M to 40 CFR part 51 for a PTE and has a capture efficiency of 100 percent, as specified in § 63.4964(a).

(5) For each capture system that is not a PTE, the data and documentation you used to determine capture efficiency according to the requirements specified in §§ 63.4963 and 63.4964(b) through (e), including the records specified in paragraphs (k)(5)(i) through (iii) of this section that apply to you.

(i) Records for a liquid-to-uncaptured-gas protocol using a temporary total enclosure or building enclosure. Records of the mass of total volatile hydrocarbon (TVH) as measured by Method 204A or F of appendix M to 40 CFR part 51 for each material used in the coating operation, and the total TVH for all materials used, during each capture efficiency test run, including a copy of the test report. Records of the mass of TVH emissions not captured by the capture system that exited the temporary total enclosure or building enclosure during each capture efficiency test run, as measured by Method 204D or E of appendix M to 40 CFR part 51, including a copy of the test report. Records documenting that the enclosure used for the capture efficiency test met the criteria in Method 204 of appendix M to 40 CFR part 51 for either a temporary total enclosure or a building enclosure.

(ii) Records for a gas-to-gas protocol using a temporary total enclosure or a building enclosure. Records of the mass of TVH emissions captured by the emission capture system as measured by Method 204B or C of appendix M to 40 CFR part 51 at the inlet to the add-on control device, including a copy of the test report. Records of the mass of TVH emissions not captured by the capture system that exited the temporary total enclosure or building enclosure during each capture efficiency test run, as measured by Method 204D or E of appendix M to 40 CFR part 51, including a copy of the test report. Records documenting that the enclosure used for the capture efficiency test met the criteria in Method 204 of appendix M to 40 CFR part 51 for either a temporary total enclosure or a building enclosure.

(iii) Records for an alternative protocol. Records needed to document a capture efficiency determination using an alternative method or protocol as specified in § 63.4964(e), if applicable.

(6) The records specified in paragraphs (k)(6)(i) and (ii) of this section for each add-on control device organic HAP destruction or removal efficiency determination as specified in § 63.4965.

(i) Records of each add-on control device performance test conducted according to §§ 63.4963 and 63.4965.

(ii) Records of the coating operation conditions during the add-on control device performance test showing that the performance test was conducted under representative operating conditions.

(7) Records of the data and calculations you used to establish the emission capture and add-on control device operating limits as specified in § 63.4966 and to document compliance with the operating limits as specified in Table 1 to this subpart.

(8) A record of the work practice plan required by § 63.4893 and documentation that you are implementing the plan on a continuous basis.

§ 63.4931 In what form and for how long must I keep my records?

(a) Your records must be in a form suitable and readily available for expeditious review, according to § 63.10(b)(1). Where appropriate, the records may be maintained as electronic spreadsheets or as a database.

(b) As specified in § 63.10(b)(1), you must keep each record for 5 years following the date of each occurrence, measurement, maintenance, corrective action, report, or record.

(c) You must keep each record on-site for at least 2 years after the date of each occurrence, measurement, maintenance, corrective action, report, or record, according to § 63.10(b)(1). You may keep these records off-site for the remaining 3 years. You must keep records on-site pertaining to the design and manufacturer's specifications for operation of add-on control equipment for the life of the equipment.

Compliance Requirements for the Compliant Material Option

§ 63.4940 By what date must I conduct the initial compliance demonstration?

You must complete the initial compliance demonstration for the initial compliance period according to the requirements in § 63.4941. The initial compliance period begins on the applicable compliance date specified in § 63.4883 and ends on the last day of the first full month following the compliance date. The initial compliance demonstration includes the calculations according to § 63.4941 and supporting documentation showing that, during the initial compliance period, you used no coating with an organic HAP content that exceeded the applicable emission limit in § 63.4890, and you used no thinners or cleaning materials that contained organic HAP.

§ 63.4941 How do I demonstrate initial compliance with the emission limitations?

You may use the compliant material option for any individual coating operation, for any group of coating operations in the affected source, or for all the coating operations in the affected source to demonstrate compliance with an organic HAP emission limit. You must use either the emission rate without add-on controls option or the emission rate with add-on controls option for any coating operation in the affected source for which you do not use this option. To demonstrate initial compliance using the compliant material option, during the compliance period the coating operation or group of coating operations must use no coating with an organic HAP content that exceeds the applicable emission limit in § 63.4890 and must use no thinner or cleaning material that contains organic HAP as determined according to this section. Any coating operation for which you use the compliant material option is not required to comply with the operating limits or work practice standards required in §§ 63.4892 and 63.4893, respectively. To demonstrate initial compliance with the emission limitations using the compliant material option, you must meet all the requirements of this section for the coating operation or group of coating operations using this option. Use the procedures in this section for each coating, thinner, and cleaning material in the condition it is in when it is received from its manufacturer or supplier and prior to any alteration. You do not need to redetermine the organic HAP content of cleaning materials that are reclaimed and reused onsite provided these materials in their condition as received were demonstrated to comply with the compliant material option.

(a) Determine the mass fraction of organic HAP for each material used. You must determine the mass fraction of organic HAP for each coating, thinner, and cleaning material used during the compliance period by using one of the options in paragraphs (a)(1) through (5) of this section.

(1) Method 311 (appendix A to 40 CFR part 63). You may use Method 311 for determining the mass fraction of organic HAP. Use the procedures specified in paragraphs (a)(1)(i) and (ii) of this section when performing a Method 311 test.

(i) Count each organic HAP that is measured to be present at 0.1 percent by mass or more for Occupational Safety and Health Administration (OSHA)-defined carcinogens as specified in 29 CFR 1910.1200(d)(4) and at 1.0 percent by mass or more for other organic HAP compounds. For example, if toluene (not an OSHA carcinogen) is measured to be 0.5 percent of the material by mass, you do not have to count it. Express the mass fraction of each organic HAP you count as a value truncated to four places after the decimal point (for example, 0.3791).

(ii) Calculate the total mass fraction of organic HAP in the test material by adding up the individual organic HAP mass fractions and truncating the result to three places after the decimal point (for example, 0.763).

(2) Method 24 (appendix A to 40 CFR part 60). For coatings, you may use Method 24 to determine the mass fraction of nonaqueous volatile matter and use that value as a substitute for mass fraction of organic HAP.

(3) Alternative method. You may use an alternative test method for determining the mass fraction of organic HAP once the Administrator has approved it. You must follow the procedure in § 63.7(f) to submit an alternative test method for approval.

(4) Information from the supplier or manufacturer of the material. You may rely on information other than that generated by the test methods specified in paragraphs (a)(1) through (3) of this section, such as manufacturer's formulation data, if it represents each organic HAP that is present at 0.1 percent by mass or more for OSHA-defined carcinogens as specified in 29 CFR 1910.1200(d)(4) and at 1.0 percent by mass or more for other organic HAP compounds. For example, if toluene (not an OSHA carcinogen) is 0.5 percent of the material by mass, you do not have to count it. If there is a disagreement between such information and results of a test conducted according to paragraphs (a)(1) through (3) of this section, then the test method results will take precedence.

(5) Solvent blends. Solvent blends may be listed as single components for some materials in data provided by manufacturers or suppliers. Solvent blends may contain organic HAP which must be counted toward the total organic HAP mass fraction of the materials. When test data and manufacturer's data for solvent blends are not available, you may use the default values for the mass fraction of organic HAP in these solvent blends listed in Table 3 or 4 to this subpart. If you use the tables, you must use the values in Table 3 for all solvent blends that match Table 3 entries, and you may only use Table 4 if the solvent blends in the materials you use do not match any of the solvent blends in Table 3, and you only know whether the blend is aliphatic or aromatic. However, if the results of a Method 311 test indicate higher values than those listed on Table 3 or 4 of this subpart, the Method 311 results will take precedence.

(b) Determine the volume fraction of coating solids for each coating. You must determine the volume fraction of coating solids (liters of coating solids per liter of coating) for each coating used during the compliance period by a test or by information provided by the supplier or the manufacturer of the material, as specified in paragraphs (b)(1), (2), and (3) of this section. If test results obtained according to paragraph (b)(1) of this section do not agree with the information obtained under paragraph (b)(2) or (3) of this section, the test results will take precedence.

(1) Test results. You may use ASTM Method D2697-86 (Reapproved 1998), “Standard Test Method for Volume Nonvolatile Matter in Clear or Pigmented Coatings” (incorporated by reference, see § 63.14), or D6093-97, “Standard Test Method for Percent Volume Nonvolatile Matter in Clear or Pigmented Coatings Using a Helium Gas Pycnometer” (incorporated by reference, see § 63.14), to determine the volume fraction of coating solids for each coating. Divide the nonvolatile volume percent obtained with the methods by 100 to calculate volume fraction of coating solids. Alternatively, you may use another test method once you obtain approval from the Administrator according to the requirements of § 63.7(f).

(2) Information from the supplier or manufacturer of the material. You may obtain the volume fraction of coating solids for each coating from the supplier or manufacturer.

(3) Calculation of volume fraction of coating solids. If the volume fraction of coating solids cannot be determined using the options in paragraphs (b)(1) and (2) of this section, you must determine it using Equation 1 of this section:

Where:

Vs = Volume fraction of coating solids, liters coating solids per liter coating.

Mvolatiles = Total volatile matter content of the coating, including HAP, volatile organic compounds (VOC), water, and exempt compounds, determined according to Method 24 in appendix A of 40 CFR part 60, grams volatile matter per liter coating.

Davg = Average density of volatile matter in the coating, grams volatile matter per liter volatile matter, determined from test results using ASTM Method D1475-90, information from the supplier or manufacturer of the material, or reference sources providing density or specific gravity data for pure materials. If there is disagreement between ASTM Method D1475-90 test results and other information sources, the test results will take precedence.

(c) Determine the density of each coating. You must determine the density of each coating used during the compliance period from test results using ASTM Method D1475-90 or information from the supplier or manufacturer of the material. If there is disagreement between ASTM Method D1475-90 test results and the supplier's or manufacturer's information, the test results will take precedence.

(d) Calculate the organic HAP content of each coating. Calculate the organic HAP content, kg organic HAP per liter coating solids, of each coating used during the compliance period, using Equation 2 of this section, except that if the mass fraction of organic HAP in the coating equals zero, then the organic HAP content also equals zero and you are not required to use Equation 2 to calculate the organic HAP content.

Where:

Hc = Organic HAP content of the coating, kg organic HAP per liter coating solids.

Dc = Density of coating, kg coating per liter coating, determined according to paragraph (c) of this section.

Wc = Mass fraction of organic HAP in the coating, kg organic HAP per kg coating, determined according to paragraph (a) of this section.

Vs = Volume fraction of coating solids, liter coating solids per liter coating, determined according to paragraph (b) of this section.

(e) Compliance demonstration. The calculated organic HAP content for each coating used during the initial compliance period must be less than or equal to the applicable emission limit in § 63.4890 and each thinner and cleaning material used during the initial compliance period must contain no organic HAP, determined according to paragraph (a) of this section. You must keep all records required by §§ 63.4930 and 63.4931. As part of the Notification of Compliance Status required in § 63.4910(c) and the semiannual compliance reports required in § 63.4920, you must identify each coating operation and group of coating operations for which you used the compliant material option. If there were no deviations from the emission limit, include a statement that each was in compliance with the emission limitations during the initial compliance period because it used no coatings for which the organic HAP content exceeded the applicable emission limit in § 63.4890, and it used no thinners or cleaning materials that contained organic HAP.

§ 63.4942 How do I demonstrate continuous compliance with the emission limitations?

(a) Following the initial compliance period, you must complete a compliance demonstration according to the requirements in § 63.4941(e) for each subsequent compliance period. Each month following the initial compliance period described in § 63.4940 is a compliance period.

(b) If you choose to comply with the emission limitations by using the compliant material option, the use of any coating, thinner, or cleaning material that does not meet the criteria specified in paragraph (a) of this section is a deviation from the emission limitations that must be reported as specified in §§ 63.4910(c)(6) and 63.4920(a)(5).

(c) As part of each semiannual compliance report required by § 63.4920, you must identify the coating operation or group of coating operations for which you used the compliant material option. If there were no deviations from the emission limits in § 63.4890, submit an affirmative statement that the coating operation or group of coating operations was in compliance with the emission limitations during the reporting period because you used no coating for which the organic HAP content exceeded the applicable emission limit in § 63.4890, and you used no thinner or cleaning material that contained organic HAP.

(d) You must maintain records as specified in §§ 63.4930 and 63.4931.

Compliance Requirements for the Emission Rate Without Add-On Controls Option

§ 63.4950 By what date must I conduct the initial compliance demonstration?

You must complete the initial compliance demonstration for the initial compliance period according to the requirements of § 63.4951. The initial compliance period begins on the applicable compliance date specified in § 63.4883 and ends on the last day of the first full month following the compliance date. The initial compliance demonstration includes the calculations showing that the organic HAP emission rate for the initial compliance period was equal to or less than the applicable emission limit in § 63.4890.

§ 63.4951 How do I demonstrate initial compliance with the emission limitations?

You may use the emission rate without add-on controls option for any individual coating operation, for any group of coating operations in the affected source, or for all the coating operations in the affected source to demonstrate compliance with an organic HAP emission limit. You must use either the compliant material option or the emission rate with add-on controls option for any coating operation in the affected source for which you do not use this option. To demonstrate initial compliance using the emission rate without add-on controls option, the coating operation or group of coating operations must comply with the applicable emission limit in § 63.4890, but is not required to meet the operating limits or work practice standards in §§ 63.4892 and 63.4893, respectively. You must meet all the requirements of this section to demonstrate initial compliance with the applicable emission limit in § 63.4890 for the coating operation or group of coating operations. When calculating the organic HAP emission rate according to this section, do not include any coatings, thinners, or cleaning materials used on coating operations for which you use the compliant material option or the emission rate with add-on controls option. You do not need to include organic HAP in coatings, thinners, or cleaning materials that have been reclaimed onsite and reused in the coating operation for which you use the emission rate without add-on controls option.

(a) Determine the mass fraction of organic HAP for each material. You must determine the mass fraction of organic HAP for each coating, thinner, and cleaning material used during the compliance period according to the requirements in § 63.4941(a).

(b) Determine the volume fraction of coating solids for each coating. You must determine the volume fraction of coating solids for each coating used during the compliance period according to the requirements in § 63.4941(b).

(c) Determine the density of each material. You must determine the density of each coating, thinner, and cleaning material used during the compliance period according to the requirements in § 63.4941(c) from test results using ASTM Method D1475-90, information from the supplier or manufacturer of the material, or reference sources providing density or specific gravity data for pure materials. If there is disagreement between ASTM Method D1475-90 test results and such other information sources, the test results will take precedence.

(d) Determine the volume of each material used. You must determine the volume (liters) of each coating, thinner, and cleaning material used during the compliance period by measurement or usage records.

(e) Calculate the mass of organic HAP emissions. The mass of organic HAP emissions is the combined mass of organic HAP contained in all coatings, thinners, and cleaning materials used during the compliance period minus the organic HAP in certain waste materials. Use Equation 1 of this section to calculate the mass of organic HAP emissions:

Where:

He = Total mass of organic HAP emissions during the compliance period, kg.

A = Total mass of organic HAP in the coatings used during the compliance period, kg, as calculated in Equation 1A of this section.

B = Total mass of organic HAP in the thinners used during the compliance period, kg, as calculated in Equation 1B of this section.

C = Total mass of organic HAP in the cleaning materials used during the compliance period, kg, as calculated in Equation 1C of this section.

Rw = Total mass of organic HAP in waste materials sent or designated for shipment to a hazardous waste TSDF for treatment or disposal during the compliance period, kg, determined according to paragraph (e)(4) of this section. The mass of any waste material reused during the same compliance period may not be included in Rw. (You may assign a value of zero to Rw if you do not wish to use this allowance.)

(1) Calculate the mass of organic HAP in the coatings used during the compliance period, using Equation 1A of this section:

Where:

A = Total mass of organic HAP in the coatings used during the compliance period, kg.

Volc,i = Total volume of coating, i, used during the compliance period, liters.

Dc,i = Density of coating, i, kg coating per liter coating.

Wc,i = Mass fraction of organic HAP in coating, i, kg organic HAP per kg coating.

m = Number of different coatings used during the compliance period.

(2) Calculate the mass of organic HAP in the thinners used during the compliance period, using Equation 1B of this section:

Where:

B = Total mass of organic HAP in the thinners used during the compliance period, kg.

Volt,j = Total volume of thinner, j, used during the compliance period, liters.

Dt,j = Density of thinner, j, kg per liter.

Wt,j = Mass fraction of organic HAP in thinner, j, kg organic HAP per kg thinner.

n = Number of different thinners used during the compliance period.

(3) Calculate the mass of organic HAP in the cleaning materials used during the compliance period using Equation 1C of this section:

Where:

C = Total mass of organic HAP in the cleaning materials used during the compliance period, kg.

Vols,k = Total volume of cleaning material, k, used during the compliance period, liters.

Ds,k = Density of cleaning material, k, kg per liter.

Ws,k = Mass fraction of organic HAP in cleaning material, k, kg organic HAP per kg material.

p = Number of different cleaning materials used during the compliance period.

(4) If you choose to account for the mass of organic HAP contained in waste materials sent or designated for shipment to a hazardous waste TSDF in the calculation of the total mass of organic HAP emissions during the compliance period in Equation 1 of this section, then you must determine the total mass of organic HAP in waste materials sent or designated for shipment to a hazardous waste TSDF for treatment or disposal during each compliance period, according to paragraphs (e)(4)(i) through (iv) of this section.

(i) You may include in the determination of the total mass of organic HAP in waste materials sent or designated for shipment to a hazardous waste TSDF for treatment or disposal during each compliance period only waste materials that are generated by coating operations for which you use Equation 1 of this section and that will be treated or disposed of by a facility regulated as a TSDF under 40 CFR part 262, 264, 265, or 266. The TSDF may be either off-site or on-site. You may not include in the determination of the total mass of organic HAP in waste materials sent or designated for shipment to a hazardous waste TSDF for treatment or disposal during each compliance period only waste materials that are generated by coating operations the organic HAP contained in wastewater, nor the organic HAP contained in any waste material reused during the same compliance period.

(ii) You must determine either the amount of the waste materials sent to a TSDF during the compliance period or the amount collected and stored during the compliance period and designated for future transport to a TSDF. Do not include in your determination of the total mass of organic HAP in waste materials sent or designated for shipment to a hazardous waste TSDF for treatment or disposal during each compliance period only waste materials that are generated by coating operations any waste materials sent to a TSDF during a compliance period if you have already included them in the amount collected and stored during that or a previous compliance period.

(iii) Determine the total mass of organic HAP contained in the waste materials specified in paragraph (e)(4)(ii) of this section.

(iv) You must document your methodology to determine the amount of waste materials and the total mass of organic HAP they contain, as required in § 63.4930(h). To the extent that waste manifests include this information, they may be used as part of the documentation of the amount of waste materials and mass of organic HAP contained in them.

(f) Calculate the total volume of coating solids used. Calculate the total volume of coating solids used, which is the combined volume of coating solids for all the coatings used during the compliance period, using Equation 2 of this section:

Where:

Vst = Total volume of coating solids used during the compliance period, liters.

Volc,i = Total volume of coating, i, used during the compliance period, liters.

Vs,i = Volume fraction of coating solids for coating, i, liter solids per liter coating, determined according to § 63.4941(b).

m = Number of coatings used during the compliance period.

(g) Calculate the organic HAP emission rate. Calculate the organic HAP emission rate for the compliance period, kg organic HAP per liter coating solids used, using Equation 3 of this section:

Where:

Havg = Organic HAP emission rate for the compliance period, kg organic HAP per liter coating solids.

He = Total mass of organic HAP emissions from all materials used during the compliance period, kg, as calculated by Equation 1 of this section.

Vst = Total volume of coating solids used during the compliance period, liters, as calculated by Equation 2 of this section.

(h) Compliance demonstration. The calculated organic HAP emission rate for the initial compliance period must be less than or equal to the applicable emission limit in § 63.4890. You must keep all records as required by §§ 63.4930 and 63.4931. As part of the Notification of Compliance Status required by § 63.4910 and the semiannual compliance reports required in § 63.4920, you must identify the coating operation or group of coating operations for which you used the emission rate without add-on controls option. If there were no deviations from the emission limit, include a statement that the coating operation or group of coating operations was in compliance with the emission limitations during the initial compliance period because the organic HAP emission rate was less than or equal to the applicable emission limit in § 63.4890, determined according to this section.

§ 63.4952 How do I demonstrate continuous compliance with the emission limitations?

(a) Following the initial compliance period, you must complete a compliance demonstration according to the requirements in § 63.4951(h) for each subsequent compliance period. Each month following the initial compliance period described in § 63.4950 is a compliance period.

(b) If the organic HAP emission rate for any compliance period exceeded the applicable emission limit in § 63.4890, this is a deviation from the emission limitations for that compliance period and must be reported as specified in §§ 63.4910(c)(6) and 63.4920(a)(6).

(c) As part of each semiannual compliance report required by § 63.4920, you must identify the coating operation or group of coating operations for which you used the emission rate without add-on controls option. If there were no deviations from the emission limitations, you must submit an affirmative statement that the coating operation or group of coating operations was in compliance with the emission limitations during the reporting period because the organic HAP emission rate for each compliance period was less than or equal to the applicable emission limit in § 63.4890.

(d) You must maintain records as specified in §§ 63.4930 and 63.4931.

Compliance Requirements for the Emission Rate With Add-On Controls Option

§ 63.4960 By what date must I conduct performance tests and other initial compliance demonstrations?

(a) New and reconstructed affected sources. For a new or reconstructed affected source, you must meet the requirements of paragraphs (a)(1) through (4) of this section.

(1) All emission capture systems, add-on control devices, and CPMS must be installed and operating no later than the applicable compliance date specified in § 63.4883. Except for solvent recovery systems for which you conduct liquid-liquid material balances according to § 63.4961(j), you must conduct a performance test of each capture system and add-on control device according to §§ 63.4963, 63.4964, and 63.4965, and establish the operating limits required by § 63.4892, no later than 180 days after the applicable compliance date specified in § 63.4883. For a solvent recovery system for which you conduct liquid-liquid material balances according to § 63.4961(j), you must initiate the first material balance no later than 180 days after the applicable compliance date specified in § 63.4883.

(2) You must develop and begin implementing the work practice plan required by § 63.4893 no later than the compliance date specified in § 63.4883.

(3) You must complete the initial compliance demonstration for the initial compliance period according to the requirements of § 63.4961. The initial compliance period begins on the applicable compliance date specified in § 63.4883 and ends on the last day of the first full month following the compliance date. The initial compliance demonstration includes the results of emission capture system and add-on control device performance tests conducted according to §§ 63.4963, 63.4964, and 63.4965; results of liquid-liquid material balances conducted according to § 63.4961(j); calculations showing whether the organic HAP emission rate for the initial compliance period was equal to or less than the emission limit in § 63.4890; the operating limits established during the performance tests and the results of the continuous parameter monitoring required by § 63.4967; and documentation of whether you developed and implemented the work practice plan required by § 63.4893.

(4) You do not need to comply with the operating limits for the emission capture system and add-on control device required by § 63.4892 until after you have completed the performance tests specified in paragraph (a)(1) of this section. Instead, you must maintain a log detailing the operation and maintenance of the emission capture system, add-on control device, and continuous parameter monitors during the period between the compliance date and the performance test. You must begin complying with the operating limits for your affected source on the date you complete the performance tests specified in paragraph (a)(1) of this section. The requirements in this paragraph (a)(4) do not apply to solvent recovery systems for which you conduct liquid-liquid material balances.

(b) Existing affected sources. For an existing affected source, you must meet the requirements of paragraphs (b)(1) through (3) of this section.

(1) All emission capture systems, add-on control devices, and CPMS must be installed and operating no later than the applicable compliance date specified in § 63.4883. Except for solvent recovery systems for which you conduct liquid-liquid material balances according to § 63.4961(j), you must conduct a performance test of each capture system and add-on control device according to the procedures in §§ 63.4963, 63.4964, and 63.4965, and establish the operating limits required by § 63.4892, no later than the compliance date specified in § 63.4883. For a solvent recovery system for which you conduct liquid-liquid material balances according to § 63.4961(j), you must initiate the first material balance no later than the compliance date specified in § 63.4883.

(2) You must develop and begin implementing the work practice plan required by § 63.4893 no later than the compliance date specified in § 63.4883.

(3) You must complete the initial compliance demonstration for the initial compliance period according to the requirements of § 63.4961. The initial compliance period begins on the applicable compliance date specified in § 63.4883 and ends on the last day of the first full month following the compliance date. The initial compliance demonstration includes the results of emission capture system and add-on control device performance tests conducted according to §§ 63.4963, 63.4964, and 63.4965; results of liquid-liquid material balances conducted according to § 63.4961(j); calculations showing whether the organic HAP emission rate for the initial compliance period was equal to or less than the emission limit in § 63.4890(c); the operating limits established during the performance tests and the results of the continuous parameter monitoring required by § 63.4967; and documentation of whether you developed and implemented the work practice plan required by § 63.4893.

§ 63.4961 How do I demonstrate initial compliance?

(a) When add-on controls are used. You may use the emission rate with add-on controls option for any coating operation, for any group of coating operations in the affected source, or for all of the coating operations in the affected source. You may include both controlled and uncontrolled coating operations in a group for which you use this option. You must use either the compliant material option or the emission rate without add-on controls option for any coating operation in the affected source for which you do not use the emission rate with add-on controls option. To demonstrate initial compliance, the coating operation or group of coating operations for which you use the emission rate with add-on controls option must meet the applicable emission limit in § 63.4890, and each controlled coating operation must meet the operating limits and work practice standards required in §§ 63.4892 and 63.4893, respectively. You must meet all the requirements of this section to demonstrate initial compliance with the emission limitations. When calculating the organic HAP emission rate according to this section, do not include any coatings, thinners, or cleaning materials used on coating operations for which you use the compliant material option or the emission rate without add-on controls option.

(b) Compliance with operating limits. Except as provided in § 63.4960(a)(4), you must establish and demonstrate continuous compliance during the initial compliance period with the operating limits required by § 63.4892, using the procedures specified in §§ 63.4966 and 63.4967.

(c) Compliance with work practice requirements. You must develop, implement, and document your implementation of the work practice plan required by § 63.4893 during the initial compliance period, as specified in § 63.4930.

(d) Compliance with emission limits. You must follow the procedures in paragraphs (e) through (m) of this section to demonstrate compliance with the applicable emission limit in § 63.4890.

(e) Determine the mass fraction of organic HAP, density, volume used, and volume fraction of coating solids. Follow the procedures specified in § 63.4951(a) through (d) to determine the mass fraction of organic HAP, density, and volume of each coating, thinner, and cleaning material used during each compliance period and the volume fraction of coating solids for each coating used during each compliance period.

(f) Calculate the total mass of organic HAP emissions before add-on controls. Using Equation 1 of § 63.4951, calculate the total mass of organic HAP emissions before add-on controls from all coatings, thinners, and cleaning materials used during the compliance period.

(g) Calculate the organic HAP emission reduction for each controlled coating operation. Determine the mass of organic HAP emissions reduced for each controlled coating operation during each compliance period. The emission reduction determination quantifies the total organic HAP emissions that pass through the emission capture system and are destroyed or removed by the add-on control device. Use the procedures in paragraph (h) of this section to calculate the mass of organic HAP emission reduction for each controlled coating operation using an emission capture system and add-on control device other than a solvent recovery system for which you conduct liquid-liquid material balances. For each controlled coating operation using a solvent recovery system for which you conduct a liquid-liquid material balance, use the procedures in paragraph (j) of this section to calculate the organic HAP emission reduction.

(h) Calculate the organic HAP emission reduction for controlled coating operations not using liquid-liquid material balance. For each controlled coating operation using an emission capture system and add-on control device other than a solvent recovery system for which you conduct liquid-liquid material balances, calculate the organic HAP emission reduction, using Equation 1 of this section. The calculation applies the emission capture system efficiency and add-on control device efficiency to the mass of organic HAP contained in the coatings, thinners, and cleaning materials that are used in the coating operation served by the emission capture system and add-on control device during the compliance period. For any period of time a deviation specified in § 63.4962(c) or (d) occurs in the controlled coating operation, including a deviation during a period of startup, shutdown, or malfunction, you must assume zero efficiency for the emission capture system and add-on control device. Equation 1 of this section treats the materials used during such a deviation as if they were used on an uncontrolled coating operation for the time period of the deviation:

Where:

HR = Mass of organic HAP emission reduction for the controlled coating operation during the compliance period, kg.

AI = Total mass of organic HAP in the coatings used in the controlled coating operation during the compliance period, excluding coatings used during deviations, kg, as calculated in Equation 1A of this section.

BI = Total mass of organic HAP in the thinners used in the controlled coating operation during the compliance period, excluding thinners used during deviations, kg, as calculated in Equation 1B of this section.

CI = Total mass of organic HAP in the cleaning materials used in the controlled coating operation during the compliance period, excluding cleaning materials used during deviations, kg, as calculated in Equation 1C of this section.

Rw = Total mass of organic HAP in waste materials sent or designated for shipment to a hazardous waste TSDF for treatment or disposal during the compliance period, kg, determined according to § 63.4951(e)(4). The mass of any waste material reused during the same compliance period may not be included in Rw. (You may assign a value of zero to Rw if you do not wish to use this allowance.)

CE = Capture efficiency of the emission capture system vented to the add-on control device, percent. Use the test methods and procedures specified in §§ 63.4963 and 63.4964 to measure and record capture efficiency.

DRE = Organic HAP destruction or removal efficiency of the add-on control device, percent. Use the test methods and procedures in §§ 63.4963 and 63.4965 to measure and record the organic HAP destruction or removal efficiency.

Hunc = Total mass of organic HAP in the coatings, thinners, and cleaning materials used during all deviations specified in § 63.4962(c) and (d) that occurred during the compliance period in the controlled coating operation, kg, as calculated in Equation 1D of this section.

(1) Calculate the mass of organic HAP in the coatings used in the controlled coating operation, using Equation 1A of this section. Do not include in the calculation the coatings used during any deviation specified in § 63.4962(c) or (d) that occurred during the month. Include such coatings in the calculation of the total mass of organic HAP in the coatings, thinners, and cleaning materials used during all deviations that occurred during the compliance period in the controlled coating operation in Equation 1D of this section.

Where:

AI = Total mass of organic HAP in the coatings used in the controlled coating operation during the compliance period, excluding coatings used during deviations, kg.

Volc,i= Total volume of coating, i, used during the compliance period except during deviations, liters.

Dc,i = Density of coating, i, kg per liter.

Wc,i = Mass fraction of organic HAP in coating, i, kg per kg.

m = Number of different coatings used.

(2) Calculate the mass of organic HAP in the thinners used in the controlled coating operation, using Equation 1B of this section. Do not include in the calculation the thinners used during any deviation specified in § 63.4962(c) or (d) that occurred during the month. Include such coatings in the calculation of the total mass of organic HAP in the coatings, thinners, and cleaning materials used during all deviations that occurred during the compliance period in the controlled coating operation in Equation 1D of this section.

Where:

BI = Total mass of organic HAP in the thinners used in the controlled coating operation during the compliance period, excluding thinners used during deviations, kg.

Volt,j = Total volume of thinner, j, used during the compliance period except during deviations, liters.

Dt,j = Density of thinner, j, kg per liter.

Wt,j = Mass fraction of organic HAP in thinner, j, kg per kg.

n = Number of different thinners used.

(3) Calculate the mass of organic HAP in the cleaning materials used in the controlled coating operation, using Equation 1C of this section. Do not include in the calculation the cleaning materials used during any deviation specified in § 63.4962(c) or (d) that occurred during the compliance period. Include such cleaning materials in the calculation of the total mass of organic HAP in the coatings, thinners, and cleaning materials used during all deviations that occurred during the compliance period in the controlled coating operation in Equation 1D of this section.

Where:

CI = Total mass of organic HAP in the cleaning materials used in the controlled coating operation during the compliance period, excluding cleaning materials used during deviations, kg.

Vols,k = Total volume of cleaning material, k, used during the compliance period except during deviations, liters.

Ds,k = Density of cleaning material, k, kg per liter.

Ws,k = Mass fraction of organic HAP in cleaning material, k, kg per kg.

p = Number of different cleaning materials used.

(4) Calculate the mass of organic HAP in the coatings, thinners, and cleaning materials used in the controlled coating operation during deviations specified in § 63.4962(c) and (d), using Equation 1D of this section:

Where:

Hunc = Total mass of organic HAP in the coatings, thinners, and cleaning materials used during all deviations specified in § 63.4962(c) and (d) that occurred during the compliance period in the controlled coating operation, kg.

Volh = Total volume of coating, thinner, or cleaning material, h, used in the controlled coating operation during deviations, liters.

Dh = Density of coating, thinner, or cleaning material, h, kg per liter.

Wh = Mass fraction of organic HAP in coating, thinner, or cleaning material, h, kg organic HAP per kg coating.

q = Number of different coatings, thinning solvents, or cleaning materials.

(i) [Reserved]

(j) Calculate the organic HAP emission reduction for controlled coating operations using liquid-liquid material balance. For each controlled coating operation using a solvent recovery system for which you conduct liquid-liquid material balances, calculate the organic HAP emission reduction by applying the volatile organic matter collection and recovery efficiency to the mass of organic HAP contained in the coatings, thinners, and cleaning materials that are used in the coating operation controlled by the solvent recovery system during the compliance period. Perform a liquid-liquid material balance for each compliance period as specified in paragraphs (j)(1) through (6) of this section. Calculate the mass of organic HAP emission reduction by the solvent recovery system as specified in paragraph (j)(7) of this section.

(1) For each solvent recovery system, you must install, calibrate, maintain, and operate according to the manufacturer's specifications, a device that indicates the cumulative amount of volatile organic matter recovered by the solvent recovery system each compliance period. The device must be initially certified by the manufacturer to be accurate to within ±2.0 percent of the mass of volatile organic matter recovered.

(2) For each solvent recovery system, determine the mass of volatile organic matter recovered for the compliance period, based on measurement with the device required in paragraph (j)(1) of this section.

(3) Determine the mass fraction of volatile organic matter for each coating, thinner, and cleaning material used in the coating operation controlled by the solvent recovery system during the compliance period. You may determine the volatile organic matter mass fraction using Method 24 of 40 CFR part 60, appendix A, or an EPA-approved alternative method, or you may use information provided by the manufacturer or supplier of the coating. In the event of any inconsistency between information provided by the manufacturer or supplier and the results of Method 24 of 40 CFR part 60, appendix A, or an approved alternative method, the test method results will govern.

(4) Determine the density of each coating, thinner, and cleaning material used in the coating operation controlled by the solvent recovery system during the compliance period according to § 63.4951(c).

(5) Measure the volume of each coating, thinner, and cleaning material used in the coating operation controlled by the solvent recovery system during the compliance period.

(6) For each compliance period, calculate the solvent recovery system's volatile organic matter collection and recovery efficiency, using Equation 2 of this section:

Where:

RV = Volatile organic matter collection and recovery efficiency of the solvent recovery system during the compliance period, percent.

MVR = Mass of volatile organic matter recovered by the solvent recovery system during the compliance period, kg.

Voli = Volume of coating, i, used in the coating operation controlled by the solvent recovery system during the compliance period, liters.

Di = Density of coating, i, kg per liter.

WVc,i = Mass fraction of volatile organic matter for coating, i, kg volatile organic matter per kg coating.

Volj = Volume of thinner, j, used in the coating operation controlled by the solvent recovery system during the compliance period, liters.

Dj = Density of thinner, j, kg per liter.

WVt,j = Mass fraction of volatile organic matter for thinner, j, kg volatile organic matter per kg thinner.

Volk = Volume of cleaning material, k, used in the coating operation controlled by the solvent recovery system during the compliance period, liters.

Dk = Density of cleaning material, k, kg per liter.

WVs,k = Mass fraction of volatile organic matter for cleaning material, k, kg volatile organic matter per kg cleaning material.

m = Number of different coatings used in the coating operation controlled by the solvent recovery system during the compliance period.

n = Number of different thinners used in the coating operation controlled by the solvent recovery system during the compliance period.

p = Number of different cleaning materials used in the coating operation controlled by the solvent recovery system during the compliance period.

(7) Calculate the mass of organic HAP emission reduction for the coating operation controlled by the solvent recovery system during the compliance period, using Equation 3 of this section:

Where:

HCSR = Mass of organic HAP emission reduction for the coating operation controlled by the solvent recovery system during the compliance period, kg.

ACSR = Total mass of organic HAP in the coatings used in the coating operation controlled by the solvent recovery system, kg, calculated using Equation 3A of this section.

BCSR = Total mass of organic HAP in the thinners used in the coating operation controlled by the solvent recovery system, kg, calculated using Equation 3B of this section.

CCSR = Total mass of organic HAP in the cleaning materials used in the coating operation controlled by the solvent recovery system, kg, calculated using Equation 3C of this section.

RV = Volatile organic matter collection and recovery efficiency of the solvent recovery system, percent, from Equation 2 of this section.

(i) Calculate the mass of organic HAP in the coatings used in the coating operation controlled by the solvent recovery system, kg, using Equation 3A of this section.

Where:

ACSR = Total mass of organic HAP in the coatings used in the coating operation controlled by the solvent recovery system during the month, kg.

Volc,i = Total volume of coating, i, used during the month in the coating operation controlled by the solvent recovery system, liters.

Dc,i = Density of coating, i, kg coating per liter coating.

Wc,i = Mass fraction of organic HAP in coating, i, kg organic HAP per kg coating.

m = Number of different coatings used.

(ii) Calculate the mass of organic HAP in the thinners used in the coating operation controlled by the solvent recovery system, using Equation 3B of this section:

Where:

BCSR = Total mass of organic HAP in the thinners used in the coating operation controlled by the solvent recovery system during the month, kg.

Volt,j = Total volume of thinner, j, used during the month in the coating operation controlled by the solvent recovery system, liters.

Dt,j = Density of thinner, j, kg thinner per liter thinner.

Wt,j = Mass fraction of organic HAP in thinner, j, kg organic HAP per kg thinner.

n = Number of different thinners used.

(iii) Calculate the mass of organic HAP in the cleaning materials used in the coating operation controlled by the solvent recovery system during the month, using Equation 3C of this section:

Where:

CCSR = Total mass of organic HAP in the cleaning materials used in the coating operation controlled by the solvent recovery system during the month, kg.

Vols,k = Total volume of cleaning material, k, used during the month in the coating operation controlled by the solvent recovery system, liters.

Ds,k = Density of cleaning material, k, kg cleaning material per liter cleaning material.

Ws,k = Mass fraction of organic HAP in cleaning material, k, kg organic HAP per kg cleaning material.

p = Number of different cleaning materials used.

(k) Calculate the total volume of coating solids used. Calculate the total volume of coating solids used, which is the combined volume of coating solids for all the coatings used during the compliance period, using Equation 2 of § 63.4951.

(l) Calculate the organic HAP emissions rate. Calculate the organic HAP emission rate to the atmosphere, using Equation 4 of this section:

Where:

Hhap = Organic HAP emission rate for the compliance period, kg organic HAP per liter coating solids.

He = Total mass of organic HAP emissions before add-on controls from all the coatings, thinners, and cleaning materials used during the compliance period, kg, determined according to paragraph (f) of this section.

HR,i = Total mass of organic HAP emission reduction for controlled coating operation, i, not using liquid-liquid material balances, during the compliance period, kg, from Equation 1 of this section.

HCSR,j = Total mass of organic HAP emission reduction for controlled coating operation, j, using a liquid-liquid material balance, during the compliance period, kg, from Equation 3 of this section.

Vst = Total volume of coating solids used during the compliance period, liters, from Equation 2 of § 63.4951.

q = Number of controlled coating operations except those controlled with a solvent recovery system.

r = Number of coating operations controlled with a solvent recovery system.

(m) Compliance demonstration. To demonstrate initial compliance with the emission limit during the compliance period as calculated using Equation 4 of this section, the HAP emission rate for the compliance period must be less than or equal to the applicable emission limit in § 63.4890. You must keep all records as required by §§ 63.4930 and 63.4931. As part of the Notification of Compliance Status required by § 63.4910 and the semiannual compliance reports required in § 63.4920, you must identify the coating operation or group of coating operations for which you used the emission rate with add-on controls option. If there were no deviations from the emission limit, include a statement that the coating operation or group of coating operations was in compliance with the emission limitations during the initial compliance period because the organic HAP emission rate was less than or equal to the applicable emission limit in § 63.4890, and you achieved the operating limits required by § 63.4892 and the work practice standards required by § 63.4893.

§ 63.4962 How do I demonstrate continuous compliance with the emission limitations?

(a) Following the initial compliance period, you must complete a compliance demonstration according to the requirements in § 63.4961(m) for each subsequent compliance period. Each month following the initial compliance period described in § 63.4960 is a compliance period.

(b) If the organic HAP emission rate for any compliance period exceeded the applicable emission limit in § 63.4890, this is a deviation from the emission limitation for that compliance period and must be reported as specified in §§ 63.4910(c)(6) and 63.4920(a)(7).

(c) You must demonstrate continuous compliance with each operating limit required by § 63.4892 that applies to you, as specified in Table 1 to this subpart.

(1) If an operating parameter is out of the allowed range specified in Table 1 to this subpart, this is a deviation from the operating limit that must be reported as specified in §§ 63.4910(c)(6) and 63.4920(a)(7).

(2) If an operating parameter deviates from the operating limit specified in Table 1 to this subpart, then you must assume that the emission capture system and add-on control device were achieving zero efficiency during the time period of the deviation. For the purposes of completing the compliance calculations specified in § 63.4961, you must treat the materials used during a deviation on a controlled coating operation as if they were used on an uncontrolled coating operation for the time period of the deviation, as indicated in Equation 1 of § 63.4961.

(d) You must meet the requirements for bypass lines in § 63.4967(b) for controlled coating operations for which you do not conduct liquid-liquid material balances. If any bypass line is opened and emissions are diverted to the atmosphere when the coating operation is running, this is a deviation that must be reported as specified in §§ 63.4910(c)(6) and 63.4920(a)(7). For the purposes of completing the compliance calculations in § 63.4961, you must treat the materials used during a deviation on a controlled coating operation as if they were used on an uncontrolled coating operation for the time period of the deviation, as indicated in Equation 1 of § 63.4961.

(e) You must demonstrate continuous compliance with the work practice standards in § 63.4893. If you did not develop a work practice plan, or you did not implement the plan, or you did not keep the records required by § 63.4930(k)(8), this is a deviation from the work practice standards that must be reported as specified in §§ 63.4910(c)(6) and 63.4920(a)(7).

(f) As part of each semiannual compliance report required in § 63.4920, you must identify the coating operation or group of coating operations for which you used the emission rate with add-on controls option. If there were no deviations from the emission limitations, submit an affirmative statement that you were in compliance with the emission limitations during the reporting period because the organic HAP emission rate for each compliance period was less than or equal to the applicable emission limit in § 63.4890, and you achieved the operating limits required by § 63.4892 and the work practice standards required by § 63.4893 during each compliance period.

(g) During periods of startup, shutdown, or malfunction of the emission capture system, add-on control device, or coating operation that may affect emission capture or control device efficiency, you must operate in accordance with the SSMP required by § 63.4900(c).

(h) [Reserved]

(i) You must maintain records as specified in §§ 63.4930 and 63.4931.

§ 63.4963 What are the general requirements for performance tests?

(a) You must conduct each performance test required by § 63.4960 according to the requirements in § 63.7(e)(1) and under the conditions in this section unless you obtain a waiver of the performance test according to the provisions in § 63.7(h).

(1) Representative coating operation operating conditions. You must conduct the performance test under representative operating conditions for the coating operation. Operations during periods of startup, shutdown, or malfunction, and during periods of nonoperation do not constitute representative conditions. You must record the process information that is necessary to document operating conditions during the test and explain why the conditions represent normal operation.

(2) Representative emission capture system and add-on control device operating conditions. You must conduct the performance test when the emission capture system and add-on control device are operating at a representative flow rate, and the add-on control device is operating at a representative inlet concentration. You must record information that is necessary to document emission capture system and add-on control device operating conditions during the test and explain why the conditions represent normal operation.

(b) You must conduct each performance test of an emission capture system according to the requirements in § 63.4964. You must conduct each performance test of an add-on control device according to the requirements in § 63.4965.

(c) The performance test to determine add-on control device organic HAP destruction or removal efficiency must consist of three runs as specified in § 63.7(e)(3) and each run must last at least 1 hour.

§ 63.4964 How do I determine the emission capture system efficiency?

You must use the procedures and test methods in this section to determine capture efficiency as part of the performance test required by § 63.4960.

(a) Assuming 100 percent capture efficiency. You may assume the capture system efficiency is 100 percent if both of the conditions in paragraphs (a)(1) and (2) of this section are met:

(1) The capture system meets the criteria in Method 204 of appendix M to 40 CFR part 51 for a PTE and directs all the exhaust gases from the enclosure to an add-on control device.

(2) All coatings, thinners, and cleaning materials used in the coating operation are applied within the capture system; coating solvent flash-off and coating, curing, and drying occurs within the capture system; and the removal of or evaporation of cleaning materials from the surfaces they are applied to occurs within the capture system. For example, this criterion is not met if parts enter the open shop environment when being moved between a spray booth and a curing oven.

(b) Measuring capture efficiency. If the capture system does not meet both of the criteria in paragraphs (a)(1) and (2) of this section, then you must use one of the three protocols described in paragraphs (c), (d), and (e) of this section to measure capture efficiency. The capture efficiency measurements use TVH capture efficiency as a surrogate for organic HAP capture efficiency. For the protocols in paragraphs (c) and (d) of this section, the capture efficiency measurement must consist of three test runs. Each test run must be at least 3 hours duration or the length of a production run, whichever is longer, up to 8 hours. For the purposes of this test, a production run means the time required for a single part to go from the beginning to the end of production, which includes surface preparation activities and drying or curing time.

(c) Liquid-to-uncaptured-gas protocol using a temporary total enclosure or building enclosure. The liquid-to-uncaptured-gas protocol compares the mass of liquid TVH in materials used in the coating operation to the mass of TVH emissions not captured by the emission capture system. Use a temporary total enclosure or a building enclosure and the procedures in paragraphs (c)(1) through (6) of this section to measure emission capture system efficiency using the liquid-to-uncaptured-gas protocol.

(1) Either use a building enclosure or construct an enclosure around the coating operation where coatings, thinners, and cleaning materials are applied, and all areas where emissions from these applied coatings and materials subsequently occur, such as flash-off, curing, and drying areas. The areas of the coating operation where capture devices collect emissions for routing to an add-on control device, such as the entrance and exit areas of an oven or spray booth, must also be inside the enclosure. The enclosure must meet the applicable definition of a temporary total enclosure or building enclosure in Method 204 of appendix M to 40 CFR part 51.

(2) Use Method 204A or 204F of appendix M to 40 CFR part 51 to determine the mass fraction, kg TVH per kg material, of TVH liquid input from each coating, thinner, and cleaning material used in the coating operation during each capture efficiency test run. To make the determination, substitute TVH for each occurrence of the term VOC in the methods.

(3) Use Equation 1 of this section to calculate the mass of TVH liquid input from all the coatings, thinners, and cleaning materials used in the coating operation during each capture efficiency test run:

Where:

TVHused = Mass of liquid total volatile hydrocarbons in materials used in the coating operation during the capture efficiency test run, lb.

TVHi = Mass fraction of TVH in coating, thinner, or cleaning material, i, that is used in the coating operation during the capture efficiency test run, kg TVH per kg material.

Voli = Total volume of coating, thinner, or cleaning material, i, used in the coating operation during the capture efficiency test run, liters.

Di = Density of coating, thinner, or cleaning material, i, kg material per liter material.

n = Number of different coatings, thinners, and cleaning materials used in the coating operation during the capture efficiency test run.

(4) Use Method 204D or E of appendix M to 40 CFR part 51 to measure the total mass of TVH emissions that are not captured by the emission capture system; they are measured as they exit the temporary total enclosure or building enclosure during each capture efficiency test run. To make the measurement, substitute TVH for each occurrence of the term VOC in the methods.

(i) Use Method 204D if the enclosure is a temporary total enclosure.

(ii) Use Method 204E if the enclosure is a building enclosure. During the capture efficiency measurement, all organic compound emitting operations inside the building enclosure, other than the coating operation for which capture efficiency is being determined, must be shut down, but all fans and blowers must be operating normally.

(5) For each capture efficiency test run, determine the percent capture efficiency of the emission capture system, using Equation 2 of this section:

Where:

CE = Capture efficiency of the emission capture system vented to the add-on control device, percent.

TVHused = Total mass of TVH liquid input used in the coating operation during the capture efficiency test run, kg.

TVHuncaptured = Total mass of TVH that is not captured by the emission capture system and that exits from the temporary total enclosure or building enclosure during the capture efficiency test run, kg.

(6) Determine the capture efficiency of the emission capture system as the average of the capture efficiencies measured in the three test runs.

(d) Gas-to-gas protocol using a temporary total enclosure or a building enclosure. The gas-to-gas protocol compares the mass of TVH emissions captured by the emission capture system to the mass of TVH emissions not captured. Use a temporary total enclosure or a building enclosure and the procedures in paragraphs (d)(1) through (5) of this section to measure emission capture system efficiency using the gas-to-gas protocol.

(1) Either use a building enclosure or construct an enclosure around the coating operation where coatings, thinners, and cleaning materials are applied, and all areas where emissions from these applied coatings and materials subsequently occur, such as flash-off, curing, and drying areas. The areas of the coating operation where capture devices collect emissions generated by the coating operation for routing to an add-on control device, such as the entrance and exit areas of an oven or a spray booth, must also be inside the enclosure. The enclosure must meet the applicable definition of a temporary total enclosure or building enclosure in Method 204 of appendix M to 40 CFR part 51.

(2) Use Method 204B or 204C of appendix M to 40 CFR part 51 to measure the total mass of TVH emissions captured by the emission capture system during each capture efficiency test run as measured at the inlet to the add-on control device. To make the measurement, substitute TVH for each occurrence of the term VOC in the methods.

(i) The sampling points for the Method 204B or 204C measurement must be upstream from the add-on control device and must represent total emissions routed from the capture system and entering the add-on control device.

(ii) If multiple emission streams from the capture system enter the add-on control device without a single common duct, then the emissions entering the add-on control device must be simultaneously measured in each duct and the total emissions entering the add-on control device must be determined.

(3) Use Method 204D or 204E of appendix M to 40 CFR part 51 to measure the total mass of TVH emissions that are not captured by the emission capture system; they are measured as they exit the temporary total enclosure or building enclosure during each capture efficiency test run. To make the measurement, substitute TVH for each occurrence of the term VOC in the methods.

(i) Use Method 204D if the enclosure is a temporary total enclosure.

(ii) Use Method 204E if the enclosure is a building enclosure. During the capture efficiency measurement, all organic compound emitting operations inside the building enclosure, other than the coating operation for which capture efficiency is being determined, must be shut down, but all fans and blowers must be operating normally.

(4) For each capture efficiency test run, determine the percent capture efficiency of the emission capture system, using Equation 3 of this section:

Where:

CE = Capture efficiency of the emission capture system vented to the add-on control device, percent.

TVHcaptured = Total mass of TVH captured by the emission capture system as measured at the inlet to the add-on control device during the emission capture efficiency test run, kg.

TVHuncaptured = Total mass of TVH that is not captured by the emission capture system and that exits from the temporary total enclosure or building enclosure during the capture efficiency test run, kg.

(5) Determine the capture efficiency of the emission capture system as the average of the capture efficiencies measured in the three test runs.

(e) Alternative capture efficiency protocol. As an alternative to the procedures specified in paragraphs (c) and (d) of this section, you may determine capture efficiency using any other capture efficiency protocol and test methods that satisfy the criteria of either the DQO or LCL approach as described in appendix A to subpart KK of this part.

§ 63.4965 How do I determine the add-on control device emission destruction or removal efficiency?

You must use the procedures and test methods in this section to determine the add-on control device emission destruction or removal efficiency as part of the performance test required by § 63.4960. You must conduct three test runs as specified in § 63.7(e)(3), and each test run must last at least 1 hour.

(a) For all types of add-on control devices, use the test methods specified in paragraphs (a)(1) through (5) of this section.

(1) Use Method 1 or 1A of appendix A to 40 CFR part 60, as appropriate, to select sampling sites and velocity traverse points.

(2) Use Method 2, 2A, 2C, 2D, 2F, or 2G of appendix A to 40 CFR part 60, as appropriate, to measure gas volumetric flow rate.

(3) Use Method 3, 3A, or 3B of appendix A to 40 CFR part 60, as appropriate, for gas analysis to determine dry molecular weight. You may also use as an alternative to Method 3B, the manual method for measuring the oxygen, carbon dioxide, and carbon monoxide content of exhaust gas in ANSI/ASME PTC 19.10-1981, “Flue and Exhaust Gas Analyses [Part 10, Instruments and Apparatus]” (incorporated by reference, see § 63.14).

(4) Use Method 4 of appendix A to 40 CFR part 60 to determine stack gas moisture.

(5) Methods for determining gas volumetric flow rate, dry molecular weight, and stack gas moisture must be performed, as applicable, during each test run.

(b) Measure total gaseous organic mass emissions as carbon at the inlet and outlet of the add-on control device simultaneously, using either Method 25 or 25A of appendix A to 40 CFR part 60, as specified in paragraphs (b)(1) through (3) of this section. You must use the same method for both the inlet and outlet measurements.

(1) Use Method 25 if the add-on control device is an oxidizer and you expect the total gaseous organic concentration as carbon to be more than 50 parts per million (ppm) at the control device outlet.

(2) Use Method 25A if the add-on control device is an oxidizer and you expect the total gaseous organic concentration as carbon to be 50 ppm or less at the control device outlet.

(3) Use Method 25A if the add-on control device is not an oxidizer.

(c) If two or more add-on control devices are used for the same emission stream, then you must measure emissions at the outlet of each device. For example, if one add-on control device is a concentrator with an outlet for the high-volume, dilute stream that has been treated by the concentrator, and a second add-on control device is an oxidizer with an outlet for the low-volume, concentrated stream that is treated with the oxidizer, you must measure emissions at the outlet of the oxidizer and the high volume dilute stream outlet of the concentrator.

(d) For each test run, determine the total gaseous organic emissions mass flow rates for the inlet and the outlet of the add-on control device, using Equation 1 of this section. If there is more than one inlet or outlet to the add-on control device, you must calculate the total gaseous organic mass flow rate using Equation 1 of this section for each inlet and each outlet and then total all of the inlet emissions and total all of the outlet emissions.

Where:

Mf= Total gaseous organic emissions mass flow rate, kg/per hour (h).

Qsd= Volumetric flow rate of gases entering or exiting the add-on control device, as determined by Method 2, 2A, 2C, 2D, 2F, or 2G, dry standard cubic meters/hour (dscm/h).

Cc= Concentration of organic compounds as carbon in the vent gas, as determined by Method 25 or Method 25A, parts per million by volume (ppmv), dry basis.

0.0416 = Conversion factor for molar volume, kg-moles per cubic meter (mol/m³) (@ 293 Kelvin (K) and 760 millimeters of mercury (mmHg)).

(e) For each test run, determine the add-on control device organic emissions destruction or removal efficiency, using Equation 2 of this section:

Where:

DRE = Organic emissions destruction or removal efficiency of the add-on control device, percent.

Mfi= Total gaseous organic emissions mass flow rate at the inlet(s) to the add-on control device, using Equation 1 of this section, kg/h.

Mfo= Total gaseous organic emissions mass flow rate at the outlet(s) of the add-on control device, using Equation 1 of this section, kg/h.

(f) Determine the emission destruction or removal efficiency of the add-on control device as the average of the efficiencies determined in the three test runs and calculated in Equation 2 of this section.

§ 63.4966 How do I establish the emission capture system and add-on control device operating limits during the performance test?

During the performance test required by § 63.4960 and described in §§ 63.4963, 63.4964, and 63.4965, you must establish the operating limits required by § 63.4892 according to this section, unless you have received approval for alternative monitoring and operating limits under § 63.8(f) as specified in § 63.4892.

(a) Thermal oxidizers. If your add-on control device is a thermal oxidizer, establish the operating limits according to paragraphs (a)(1) and (2) of this section.

(1) During the performance test, you must monitor and record the combustion temperature at least once every 15 minutes during each of the three test runs. You must monitor the temperature in the firebox of the thermal oxidizer or immediately downstream of the firebox before any substantial heat exchange occurs.

(2) Use the data collected during the performance test to calculate and record the average combustion temperature maintained during the performance test. This average combustion temperature is the minimum operating limit for your thermal oxidizer.

(b) Catalytic oxidizers. If your add-on control device is a catalytic oxidizer, establish the operating limits according to either paragraphs (b)(1) and (2) or paragraphs (b)(3) and (4) of this section.

(1) During the performance test, you must monitor and record the temperature just before the catalyst bed and the temperature difference across the catalyst bed at least once every 15 minutes during each of the three test runs.

(2) Use the data collected during the performance test to calculate and record the average temperature just before the catalyst bed and the average temperature difference across the catalyst bed maintained during the performance test. These are the minimum operating limits for your catalytic oxidizer.

(3) As an alternative to monitoring the temperature difference across the catalyst bed, you may monitor the temperature at the inlet to the catalyst bed and implement a site-specific inspection and maintenance plan for your catalytic oxidizer as specified in paragraph (b)(4) of this section. During the performance test, you must monitor and record the temperature just before the catalyst bed at least once every 15 minutes during each of the three test runs. Use the data collected during the performance test to calculate and record the average temperature just before the catalyst bed during the performance test. This is the minimum operating limit for your catalytic oxidizer.

(4) You must develop and implement an inspection and maintenance plan for your catalytic oxidizer(s) for which you elect to monitor according to paragraph (b)(3) of this section. The plan must address, at a minimum, the elements specified in paragraphs (b)(4)(i) through (iii) of this section.

(i) Annual sampling and analysis of the catalyst activity (i.e., conversion efficiency) following the manufacturer's or catalyst supplier's recommended procedures.

(ii) Monthly inspection of the oxidizer system, including the burner assembly and fuel supply lines for problems and, as necessary, adjust the equipment to assure proper air-to-fuel mixtures.

(iii) Annual internal and monthly external visual inspection of the catalyst bed to check for channeling, abrasion, and settling. If problems are found, you must replace the catalyst bed or take corrective action consistent with the manufacturer's recommendations and conduct a new performance test to determine destruction efficiency according to § 63.4965.

(c) Carbon adsorbers. If your add-on control device is a carbon adsorber, establish the operating limits according to paragraphs (c)(1) and (2) of this section.

(1) You must monitor and record the total regeneration desorbing gas (e.g., steam or nitrogen) mass flow for each regeneration cycle, and the carbon bed temperature after each carbon bed regeneration and cooling cycle, for the regeneration cycle either immediately preceding or immediately following the performance test.

(2) The operating limits for your carbon adsorber are the minimum total desorbing gas mass flow recorded during the regeneration cycle and the maximum carbon bed temperature recorded after the cooling cycle.

(d) Condensers. If your add-on control device is a condenser, establish the operating limits according to paragraphs (d)(1) and (2) of this section.

(1) During the performance test, you must monitor and record the condenser outlet (product side) gas temperature at least once every 15 minutes during each of the three test runs.

(2) Use the data collected during the performance test to calculate and record the average condenser outlet (product side) gas temperature maintained during the performance test. This average condenser outlet gas temperature is the maximum operating limit for your condenser.

(e) Emission capture system. For each capture device that is not part of a PTE that meets the criteria of § 63.4964(a), establish an operating limit for either the gas volumetric flow rate or duct static pressure, as specified in paragraphs (e)(1) and (2) of this section. The operating limit for a PTE is specified in Table 1 to this subpart.

(1) During the capture efficiency determination required by § 63.4960 and described in §§ 63.4963 and 63.4964, you must monitor and record either the gas volumetric flow rate or the duct static pressure for each separate capture device in your emission capture system at least once every 15 minutes during each of the three test runs at a point in the duct between the capture device and the add-on control device inlet.

(2) Calculate and record the average gas volumetric flow rate or duct static pressure for the three test runs for each capture device. This average gas volumetric flow rate or duct static pressure is the minimum operating limit for that specific capture device.

(f) Concentrators. If your add-on control device includes a concentrator, you must establish operating limits for the concentrator according to paragraphs (f)(1) through (4) of this section.

(1) During the performance test, you must monitor and record the desorption concentrate stream gas temperature at least once every 15 minutes during each of the three runs of the performance test.

(2) Use the data collected during the performance test to calculate and record the average temperature. This is the minimum operating limit for the desorption concentrate gas stream temperature.

(3) During the performance test, you must monitor and record the pressure drop of the dilute stream across the concentrator at least once every 15 minutes during each of the three runs of the performance test.

(4) Use the data collected during the performance test to calculate and record the average pressure drop. This is the maximum operating limit for the dilute stream across the concentrator.

(g) Bioreactors. If you are using a bioreactor, you must comply with the provisions for the use of an alternative monitoring method as set forth in 40 CFR 63.8(f).

§ 63.4967 What are the requirements for continuous parameter monitoring system installation, operation, and maintenance?

(a) General. You must install, operate, and maintain each CPMS specified in paragraphs (c), (e), and (f) of this section according to paragraphs (a)(1) through (6) of this section. You must install, operate, and maintain each CPMS specified in paragraphs (b) and (d) of this section according to paragraphs (a)(3) through (5) of this section.

(1) The CPMS must complete a minimum of one cycle of operation for each successive 15-minute period. You must have a minimum of four equally spaced successive cycles of CPMS operation in 1 hour.

(2) You must determine the average of all recorded readings for each 3-hour period of the emission capture system and add-on control device operation.

(3) You must record the results of each inspection, calibration, and validation check of the CPMS.

(4) You must maintain the CPMS at all times and have available necessary parts for routine repairs of the monitoring equipment.

(5) You must operate the CPMS and collect emission capture system and add-on control device parameter data at all times that a controlled coating operation is operating, except during monitoring malfunctions, repairs to correct the monitor malfunctions, and required quality assurance or control activities (including, if applicable, calibration checks and required zero and span adjustments).

(6) You must not use emission capture system or add-on control device parameter data recorded during monitoring malfunctions, repairs to correct the monitor malfunctions, out-of-control periods, or required quality assurance or control activities when calculating data averages. You must use all the data collected during all other periods in calculating the data averages for determining compliance with the emission capture system and add-on control device operating limits.

(7) A monitoring malfunction is any sudden, infrequent, not reasonably preventable failure of the CPMS to provide valid data. Monitoring failures that are caused in part by poor maintenance or careless operation are not malfunctions. Any period for which the monitoring system is out-of-control and data are not available for required calculations is a deviation from the monitoring requirements.

(b) Capture system bypass line. You must meet the requirements of paragraphs (b)(1) and (2) of this section for each emission capture system that contains bypass lines that could divert emissions away from the add-on control device to the atmosphere.

(1) You must monitor or secure the valve or closure mechanism controlling the bypass line in a nondiverting position in such a way that the valve or closure mechanism cannot be opened without creating a record that the valve was opened. The method used to monitor or secure the valve or closure mechanism must meet one of the requirements specified in paragraphs (b)(1)(i) through (iv) of this section.

(i) Flow control position indicator. Install, calibrate, maintain, and operate according to the manufacturer's specifications a flow control position indicator that takes a reading at least once every 15 minutes and provides a record indicating whether the emissions are directed to the add-on control device or diverted from the add-on control device. The time of occurrence and flow control position must be recorded, as well as every time the flow direction is changed. The flow control position indicator must be installed at the entrance to any bypass line that could divert the emissions away from the add-on control device to the atmosphere.

(ii) Car-seal or lock-and-key valve closures. Secure any bypass line valve in the closed position with a car-seal or a lock-and-key type configuration. You must visually inspect the seal or closure mechanism at least once every month to ensure that the valve is maintained in the closed position, and the emissions are not diverted away from the add-on control device to the atmosphere.

(iii) Valve closure monitoring. Ensure that any bypass line valve is in the closed (nondiverting) position through monitoring of valve position at least once every 15 minutes. You must inspect the monitoring system at least once every month to verify that the monitor will indicate valve position.

(iv) Automatic shutdown system. Use an automatic shutdown system in which the coating operation is stopped when flow is diverted by the bypass line away from the add-on control device to the atmosphere when the coating operation is running. You must inspect the automatic shutdown system at least once every month to verify that it will detect diversions of flow and shut down the coating operation.

(2) If any bypass line is opened, you must include a description of why the bypass line was opened and the length of time it remained open in the semiannual compliance reports required in § 63.4920.

(c) Thermal oxidizers and catalytic oxidizers. If you are using a thermal oxidizer or catalytic oxidizer as an add-on control device (including those used with concentrators or with carbon adsorbers to treat desorbed concentrate streams), you must comply with the requirements in paragraphs (c)(1) through (3) of this section:

(1) For a thermal oxidizer, install a gas temperature monitor in the firebox of the thermal oxidizer or in the duct immediately downstream of the firebox before any substantial heat exchange occurs.

(2) For a catalytic oxidizer, install a gas temperature monitor in the gas stream immediately before the catalyst bed, and if you are establishing operating limits according to § 63.4966(b)(1) and (2), also install a gas temperature monitor in the gas stream immediately after the catalyst bed.

(3) For each gas temperature monitoring device, you must meet the requirements in paragraphs (a) and (c)(3)(i) through (vi) of this section for each gas temperature monitoring device.

(i) Locate the temperature sensor in a position that provides a representative temperature.

(ii) Use a temperature sensor with an accuracy of at least 5 degrees Fahrenheit or 1.0 percent of the temperature value, whichever is larger.

(iii) Perform an initial calibration according to the manufacturer's requirements.

(iv) Before using the sensor for the first time or upon relocation or replacement of the sensor, perform a validation check by comparing the sensor output to a calibrated temperature measurement device or by comparing the sensor output to a simulated temperature.

(v) Conduct an accuracy audit every quarter and after every 24 hour excursion. Accuracy audit methods include comparisons of sensor output to redundant temperature sensors, to calibrated temperature measurement devices, or to temperature simulation devices.

(vi) Conduct a visual inspection of each sensor every quarter if redundant temperature sensors are not used.

(d) Carbon adsorbers. If you are using a carbon adsorber as an add-on control device, you must monitor the total regeneration desorbing gas (e.g., steam or nitrogen) mass flow for each regeneration cycle, the carbon bed temperature after each regeneration and cooling cycle, and comply with paragraphs (a)(3) through (5) and (d)(1) through (3) of this section.

(1) The regeneration desorbing gas mass flow monitor must be an integrating device having a measurement sensitivity of plus or minus 10 percent, capable of recording the total regeneration desorbing gas mass flow for each regeneration cycle.

(2) The carbon bed temperature monitor must be capable of recording the temperature within 15 minutes of completing any carbon bed cooling cycle.

(3) For all carbon adsorbers, you must meet the requirements in paragraphs (c)(3)(i) through (vi) of this section for each gas temperature monitoring device.

(e) Condensers. If you are using a condenser, you must monitor the condenser outlet (product side) gas temperature and comply with paragraphs (a) and (e)(1) and (2) of this section.

(1) The temperature monitor must provide a gas temperature record at least once every 15 minutes.

(2) For all condensers, you must meet the requirements in paragraphs (c)(3)(i) through (vi) of this section for each gas temperature monitoring device.

(f) Emission capture systems. The capture system monitoring system must comply with the applicable requirements in paragraphs (f)(1) and (2) of this section.

(1) For each flow measurement device, you must meet the requirements in paragraphs (a) and (f)(1)(i) through (vii) of this section.

(i) Locate a flow sensor in a position that provides a representative flow measurement in the duct from each capture device in the emission capture system to the add-on control device.

(ii) Use a flow sensor with an accuracy of at least 10 percent of the flow.

(iii) Perform an initial sensor calibration in accordance with the manufacturer's requirements.

(iv) Perform a validation check before initial use or upon relocation or replacement of a sensor. Validation checks include comparison of sensor values with electronic signal simulations or via relative accuracy testing.

(v) Perform accuracy audits every quarter and after every 24 hour excursion. Accuracy audits include comparison of sensor values with electronic signal simulations or with values obtained via relative accuracy testing.

(vi) Perform leak checks monthly.

(vii) Perform visual inspections of the sensor system quarterly if there is no redundant sensor.

(2) For each pressure drop measurement device, you must comply with the requirements in paragraphs (a) and (f)(2)(i) through (vii) of this section.

(i) Locate the pressure sensor(s) in or as close to a position that provides a representative measurement of the pressure drop across each opening you are monitoring.

(ii) Use a pressure sensor with an accuracy of at least 0.5 inches of water column or 5 percent of the measured value, whichever is larger.

(iii) Perform an initial calibration of the sensor according to the manufacturer's requirements.

(iv) Conduct a validation check before initial operation or upon relocation or replacement of the sensor. Validation checks include comparison of the sensor values to calibrated pressure measurement devices or to pressure simulation using calibrated pressure sources.

(v) Conduct accuracy audits every quarter and after every 24 hour excursion. Accuracy audits include comparison of sensor values to calibrated pressure measurement devices or to pressure simulation using calibrated pressure sources.

(vi) Perform monthly leak checks on pressure connections. A pressure of at least 1.0 inches of water column to the connection must yield a stable sensor result for at least 15 seconds.

(vii) Perform a visual inspection of the sensor at least monthly if there is no redundant sensor.

(g) Concentrators. If you are using a concentrator, such as a zeolite wheel or rotary carbon bed concentrator, you must comply with the requirements in paragraphs (a) and (g)(1) and (2) of this section.

(1) You must install a temperature monitor in the desorption gas stream. The temperature monitor must meet the requirements in paragraphs (a) and (c)(3) of this section.

(2) You must install a device to monitor pressure drop across the zeolite wheel or rotary carbon bed. The pressure monitoring device must meet the requirements in paragraphs (a) and (f)(2) of this section.

Other Requirements and Information

§ 63.4980 Who implements and enforces this subpart?

(a) This subpart can be implemented and enforced by us, the U.S. Environmental Protection Agency (EPA), or a delegated authority such as your State, local, or tribal agency. If the Administrator has delegated authority to your State, local, or tribal agency, then that agency (as well as EPA) has the authority to implement and enforce this subpart. You should contact your EPA Regional Office to find out if implementation and enforcement of this subpart is delegated to your State, local, or tribal agency.

(b) In delegating implementation and enforcement authority of this subpart to a State, local, or tribal agency under subpart E of this part, the authorities contained in paragraph (c) of this section are retained by the Administrator and are not transferred to the State, local, or tribal agency.

(c) The authorities that will not be delegated to State, local, or tribal agencies are listed in paragraphs (c)(1) through (4) of this section:

(1) Approval of alternatives to the work practice standards in § 63.4893 under § 63.6(g).

(2) Approval of major alternatives to test methods under § 63.7(e)(2)(ii) and (f), and as defined in § 63.90.

(3) Approval of major alternatives to monitoring under § 63.8(f) and as defined in § 63.90.

(4) Approval of major alternatives to recordkeeping and reporting under § 63.10(f) and as defined in § 63.90.

§ 63.4981 What definitions apply to this subpart?

Terms used in this subpart are defined in the CAA, in 40 CFR 63.2, and in this section as follows:

Add-on control means an air pollution control device such as a thermal oxidizer or carbon adsorber that reduces pollution in an air stream by destruction or removal before discharge to the atmosphere.

Adhesive means any chemical substance that is applied for the purpose of bonding two surfaces together.

Capture device means a hood, enclosure, room, floor sweep, or other means of containing or collecting emissions and directing those emissions into an add-on air pollution control device.

Capture efficiency or capture system efficiency means the portion (expressed as a percentage) of the pollutants from an emission source that is delivered to an add-on control device.

Capture system means one or more capture devices intended to collect emissions generated by a coating operation in the use of coatings or cleaning materials, both at the point of application and at subsequent points where emissions from the coatings and cleaning materials occur, such as flashoff, drying, or curing. As used in this subpart, multiple capture devices that collect emissions generated by a coating operation are considered a single capture system.

Cleaning material means a solvent used to remove contaminants and other materials, such as dirt, grease, oil, and dried or wet coating (e.g., depainting), from a substrate before or after coating application or from equipment associated with a coating operation, such as spray booths, spray guns, racks, tanks, and hangers. Thus, it includes any cleaning material used on substrates or equipment or both.

Coating means a material applied to a substrate for decorative, protective, or functional purposes. Such materials include, but are not limited to, paints, sealants, caulks, inks, adhesives, and maskants. Decorative, protective, or functional materials that consist only of protective oils for metal, acids, bases, or any combination of these substances are not considered coatings for the purposes of this subpart.

Coating operation means equipment used to apply cleaning materials to a substrate to prepare it for coating application or to remove dried or wet coating (surface preparation); to apply coating to a substrate (coating application) and to dry or cure the coating after application; and to clean coating operation equipment (equipment cleaning). A single coating operation may include any combination of these types of equipment, but always includes at least the point at which a coating or cleaning material is applied and all subsequent points in the affected source where organic HAP emissions from that coating or cleaning material occur. There may be multiple coating operations in an affected source. Coating application with hand-held nonrefillable aerosol containers, touchup markers, or marking pens is not a coating operation for the purposes of this subpart.

Coating solids means the nonvolatile portion of the coating that makes up the dry film.

Continuous parameter monitoring system (CPMS) means the total equipment that may be required to meet the data acquisition and availability requirements of this subpart, used to sample, condition (if applicable), analyze, and provide a record of coating operation, or capture system, or add-on control device parameters.

Controlled coating operation means a coating operation from which some or all of the organic HAP emissions are routed through an emission capture system and add-on control device.

Deviation means any instance in which an affected source subject to this subpart, or an owner or operator of such a source:

(1) Fails to meet any requirement or obligation established by this subpart including, but not limited to, any emission limit, or operating limit, or work practice standard;

(2) Fails to meet any term or condition that is adopted to implement an applicable requirement in this subpart and that is included in the operating permit for any affected source required to obtain such a permit; or

(3) Fails to meet any emission limit, or operating limit, or work practice standard in this subpart during startup, shutdown, or malfunction, regardless of whether or not such failure is allowed by this subpart.

Emission limitation means an emission limit, operating limit, or work practice standard.

Enclosure means a structure that surrounds a source of emissions and captures and directs the emissions to an add-on control device.

Exempt compound means a specific compound that is not considered a VOC due to negligible photochemical reactivity. The exempt compounds are listed in 40 CFR 51.100(s).

Facility maintenance means the routine repair or renovation (including surface coating) of the tools, equipment, machinery, and structures that comprise the infrastructure of the affected facility and that are necessary for the facility to function in its intended capacity.

Manufacturer's formulation data means data on a material (such as a coating) that are supplied by the material manufacturer based on knowledge of the ingredients used to manufacture that material, rather than based on testing of the material with the test methods specified in § 63.4941(a)(1) through (3). Manufacturer's formulation data may include, but are not limited to, information on density, organic HAP content, volatile organic matter content, and coating solids content.

Mass fraction of coating solids means the ratio of the mass of coating solids to the mass of a coating in which it is contained, expressed as kg of coating solids per kg of coating.

Mass fraction of organic HAP means the ratio of the mass of organic HAP to the mass of a material in which it is contained, expressed as kg of organic HAP per kg of material.

Month means a calendar month or a pre-specified period of 28 days to 35 days to allow for flexibility in recordkeeping when data are based on a business accounting period.

Organic HAP content means the mass of organic HAP per volume of coating solids for a coating, calculated using Equation 2 of § 63.4941. The organic HAP content is determined for the coating in the condition it is in when received from its manufacturer or supplier and does not account for any alteration after receipt.

Permanent total enclosure (PTE) means a permanently installed enclosure that meets the criteria of Method 204 of appendix M, 40 CFR part 51, for a PTE and that directs all the exhaust gases from the enclosure to an add-on control device.

Protective oil means an organic material that is applied to metal for the purpose of providing lubrication or protection from corrosion without forming a solid film. This definition of protective oil includes, but is not limited to, lubricating oils, evaporative oils (including those that evaporate completely), and extrusion oils.

Research or laboratory facility means a facility whose primary purpose is for research and development of new processes and products, that is conducted under the close supervision of technically trained personnel, and is not engaged in the manufacture of final or intermediate products for commercial purposes, except in a de minimis manner.

Responsible official means responsible official as defined in 40 CFR 70.2.

Startup, initial means the first time equipment is brought online in a facility.

Surface preparation means use of a cleaning material on a portion of or all of a substrate. This includes use of a cleaning material to remove dried coating, which is sometimes called “depainting” or “paint stripping,” for the purpose of preparing a substrate for coating application.

Temporary total enclosure means an enclosure constructed for the purpose of measuring the capture efficiency of pollutants emitted from a given source as defined in Method 204 of appendix M, 40 CFR part 51.

Thinner means an organic solvent that is added to a coating after the coating is received from the supplier.

Total volatile hydrocarbon (TVH) means the total amount of nonaqueous volatile organic matter determined according to Methods 204 and 204A through 204F of appendix M to 40 CFR part 51 and substituting the term TVH each place in the methods where the term VOC is used. The TVH includes both VOC and non-VOC.

Uncontrolled coating operation means a coating operation from which none of the organic HAP emissions are routed through an emission capture system and add-on control device.

Volatile organic compound (VOC) means any compound defined as VOC in 40 CFR 51.100(s).

Volume fraction of coating solids means the ratio of the volume of coating solids (also known as volume of nonvolatiles) to the volume of coating, expressed as liters of coating solids per liter of coating.

Wastewater means water that is generated in a coating operation and is collected, stored, or treated prior to being discarded or discharged.

Tables to Subpart RRRR of Part 63

Table 1 to Subpart RRRR of Part 63.—Operating Limits if Using the Emission Rate With Add-on Controls Option
[If you are required to comply with operating limits by § 63.4892, you must comply with the applicable operating limits in the following table:]
For the following device . . . | you must meet the following operating limit . . . | and you must demonstrate continuous compliance with the operating limit by . . .
1. thermal oxidizer | a. the average combustion temperature in any 3-hour period must not fall below the combustion temperature limit established according to § 63.4966(a) | i. collecting the combustion temperature data according to § 63.4967(c); ii. reducing the data to 3-hour block averages; and iii. maintaining the 3-hour average combustion temperature at or above the temperature limit.
2. catalytic oxidizer | a. the average temperature measured just before the catalyst bed in any 3-hour period must not fall below the limit established according to § 63.4966(b); and either | i. collecting the temperature data according to § 63.4967(c); ii. reducing the data to 3-hour block averages; and iii. maintaining the 3-hour average temperature before the catalyst bed at or above the temperature limit.
| b. ensure that the average temperature difference across the catalyst bed in any 3-hour period does not fall below the temperature difference limit established according to § 63.4966(b), or | i. collecting the temperature data according to § 63.4967(c); ii. reducing the data to 3-hour block averages; and iii. maintaining the 3-hour average temperature difference at or above the temperature difference limit.
| c. develop and implement an inspection and maintenance plan according to § 63.4966(b)(3) and (4). | i. maintaining an up-to-date inspection and maintenance plan, records of annual catalyst activity checks, records of monthly inspections of the oxidizer system, and records of the annual internal inspections of the catalyst bed. If a problem is discovered during a monthly or annual inspection required by § 63.4966(b)(4), you must take corrective action as soon as practicable consistent with the manufacturer's recommendations.
3. carbon adsorber | a. the total regeneration desorbing gas (e.g., steam or nitrogen) mass flow for each carbon bed regeneration cycle must not fall below the total regeneration desorbing gas mass flow limit established according to § 63.4966(c) | i. measuring the total regeneration desorbing gas (e.g., steam or nitrogen) mass flow for each regeneration cycle according § 63.4967(d); and ii. maintaining the total regeneration desorbing gas mass flow at or above the mass flow limit.
| b. the temperature of the carbon bed after completing each regeneration and any cooling cycle must not exceed the carbon bed temperature limit established according to § 63.4966(c) | i. measuring the temperature of the carbon bed after completing each regeneration and any cooling cycle according to § 63.4967(d); and ii. operating the carbon beds such that each carbon bed is not returned to service until completing each regeneration and any cooling cycle until the recorded temperature of the carbon bed is at or below the temperature limit.
4. condenser | a. the average condenser outlet (product side) gas temperature in any 3-hour period must not exceed the temperature limit established according to § 63.4966(d) | i. collecting the condenser outlet (product side) gas temperature according to § 63.4967(e); ii. reducing the data to 3-hour block averages; and iii. maintaining the 3-hour average gas temperature at the outlet at or below the temperature limit.
5. emission capture system that is a PTE according to § 63.4964(a) | a. the direction of the air flow at all times must be into the enclosure; and either | i. collecting the direction of air flow, and either the facial velocity of air through all natural draft openings according to § 63.4967(f)(1) or the pressure drop across the enclosure according to § 63.4967(f)(2); and ii. maintaining the facial velocity of air flow through all natural draft openings or the pressure drop at or above the facial velocity limit or pressure drop limit, and maintaining the direction of air flow into the enclosure at all times.
| b. the average facial velocity of air through all natural draft openings in the enclosure must be at least 200 feet per minute; or | i. collecting the direction of air flow, and either the facial velocity of air through all natural draft openings according to § 63.4967(f)(1) or the pressure drop across the enclosure according to § 63.4967(f)(2); and ii. maintaining the facial velocity of air flow through all natural draft openings or the pressure drop at or above the facial velocity limit or pressure drop limit, and maintaining the direction of air flow into the enclosure at all times.
| c. the pressure drop across the enclosure must be at least 0.007 inch H2O, as established in Method 204 of appendix M to 40 CFR part 51 | i. collecting the direction of air flow, and either the facial velocity of air through all natural draft openings according to § 63.4967(f)(1) or the pressure drop across the enclosure according to § 63.4967(f)(2); and ii. maintaining the facial velocity of air flow through all natural draft openings or the pressure drop at or above the facial velocity limit or pressure drop limit, and maintaining the direction of air flow into the enclosure at all times.
6. emission capture system that is not a PTE according to § 63.4964(a) | a. the average gas volumetric flow rate or duct static pressure in each duct between a capture device and add-on control device inlet in any 3-hour period must not fall below the average volumetric flow rate or duct static pressure limit established for that capture device according to § 63.4966(e) | i. collecting the gas volumetric flow rate or duct static pressure for each capture device according to § 63.4967(f); ii. reducing the data to 3-hour block averages; and iii. maintaining the 3-hour average gas volumetric flow rate or duct static pressure for each capture device at or above the gas volumetric flow rate or duct static pressure limit.
7. concentrators, including zeolite wheels and rotary carbon adsorbers | a. the average gas temperature of the desorption concentrate stream in any 3-hour period must not fall below the limit established according to § 63.4966(f) | i. collecting the temperature data according to § 63.4967(g); ii. reducing the data to 3-hour block averages; and iii. maintaining the 3-hour average temperature at or above the temperature limit.
| b. the average pressure drop of the dilute stream across the concentrator in any 3-hour period must not fall below the limit established according to § 63.4966(f) | i. collecting the pressure drop data according to § 63.4967(g); ii. reducing the pressure drop data to 3-hour block averages; and iii. maintaining the 3-hour average pressure drop at or above the pressure drop
8. bioreactor systems | a. the use of an alternative monitoring method as set forth in § 63.8(f)

Table 2 to Subpart RRRR of Part 63.—Applicability of General Provisions to Subpart RRRR
[You must comply with the applicable General Provisions requirements according to the following table:]
Citation | Subject | Applicable to subpart | Explanation
§ 63.1(a)(1)-(14) | General Applicability | Yes.
§ 63.1(b)(1)-(3) | Initial Applicability Determination | Yes | Applicability to subpart RRRR is also specified in § 63.4881.
§ 63.1(c)(1) | Applicability After Standard Established | Yes.
§ 63.1(c)(2)-(3) | Applicability of Permit Program for Area Sources | No | Area sources are not subject to subpart RRRR.
§ 63.1(c)(4)-(5) | Extensions and Notifications | Yes.
§ 63.1(e) | Applicability of Permit Program Before Relevant Standard is Set | Yes.
§ 63.2 | Definitions | Yes | Additional definitions are specified in § 63.4981.
§ 63.3(a)-(c) | Units and Abbreviations | Yes.
§ 63.4(a)(1)-(5) | Prohibited Activities | Yes.
§ 63.4(b)-(c) | Circumvention/Severability | Yes.
§ 63.5(a) | Construction/Reconstruction | Yes.
§ 63.5(b)(1)-(6) | Requirements for Existing, Newly Constructed, and Reconstructed Sources | Yes.
§ 63.5(d) | Application for Approval of Construction/Reconstruction | Yes.
§ 63.5(e) | Approval of Construction/Reconstruction | Yes.
§ 63.5(f) | Approval of Construction/Reconstruction Based on Prior State Review | Yes.
§ 63.6(a) | Compliance With Standards and Maintenance Requirements—Applicability | Yes.
§ 63.6(b)(1)-(7) | Compliance Dates for New and Reconstructed Sources | Yes | Section 63.4883 specifies the compliance dates.
§ 63.6(c)(1)-(5) | Compliance Dates for Existing Sources | Yes | Section 63.4883 specifies the compliance dates.
§ 63.6(e)(1)-(2) | Operation and Maintenance | Yes.
§ 63.6(e)(3) | SSMP | Yes | Only sources using an add-on control device to comply with the standard must complete SSMP.
§ 63.6(f)(1) | Compliance Except During Startup, Shutdown, and Malfunction | Yes | Applies only to sources using an add-on control device to comply with the standards.
§ 63.6(f)(2)-(3) | Methods for Determining Compliance | Yes.
§ 63.6(g)(1)-(3) | Use of Alternative Standards | Yes.
§ 63.6(h) | Compliance With Opacity/Visible Emission Standards | No | Subpart RRRR does not establish opacity standards and does not require continuous opacity monitoring systems (COMS).
§ 63.6(i)(1)-(16) | Extension of Compliance | Yes.
§ 63.6(j) | Presidential Compliance Exemption | Yes.
§ 63.7(a)(1) | Performance Test Requirements—Applicability | Yes | Applies to all affected sources using an add-on control device to comply with the standards. Additional requirements for performance testing are specified in §§ 63.4963, 63.4964, and 63.4965.
§ 63.7(a)(2) | Performance Test Requirements—Dates | Yes | Applies only to performance tests for capture system and control device efficiency at sources using these to comply with the standards. Section 63.4960 specifies the schedule for performance test requirements that are earlier than those specified in § 63.7(a)(2).
§ 63.7(a)(3) | Performance Tests Required by the Administrator | Yes.
§ 63.7(b)-(e) | Performance Test Requirements—Notification, Quality Assurance, Facilities Necessary Safe Testing, Conditions During Test | Yes | Applies only to performance tests for capture system and add-on control device efficiency at sources using these to comply with the standards.
§ 63.7(f) | Performance Test Requirements—Use of Alternative Test Method | Yes | Applies to all test methods except those used to determine capture system efficiency.
§ 63.7(g)-(h) | Performance Test Requirements—Data Analysis, Recordkeeping, Reporting, Waiver of Test | Yes | Applies only to performance tests for capture system and add-on control device efficiency at sources using these to comply with the standards.
§ 63.8(a)(1)-(3) | Monitoring Requirements—Applicability | Yes | Applies only to monitoring of capture system and add-on control device efficiency at sources using these to comply with the standards. Additional requirements for monitoring are specified in § 63.4967.
§ 63.8(a)(4) | Additional Monitoring Requirements | No | Subpart RRRR does not have monitoring requirements for flares.
§ 63.8(b) | Conduct of Monitoring | Yes.
§ 63.8(c)(1)-(3) | Continuous Monitoring System (CMS) Operation and Maintenance | Yes | Applies only to monitoring of capture system and add-on control device efficiency at sources using these to comply with the standards. Additional requirements for CMS operations and maintenance are specified in § 63.4967.
§ 63.8(c)(4) | CMS | No | Section 63.4967 specifies the requirements for the operation of CMS for capture systems and add-on control devices at sources using these to comply.
§ 63.8(c)(5) | COMS | No | Subpart RRRR does not have opacity or visible emissions standards.
§ 63.8(c)(6) | CMS Requirements | No | Section 63.4967 specifies the requirements for monitoring systems for capture systems and add-on control devices at sources using these to comply.
§ 63.8(c)(7) | COS Out-of-Control Periods | Yes.
§ 63.8(c)(8) | CMS Out-of-Control Periods Reporting | No | Section 63.4920 requires reporting of CMS out-of-control periods.
§ 63.8(d)-(e) | Quality Control Program and CMS Performance Evaluation | No | Subpart RRRR does not require the use of continuous emissions monitoring systems.
§ 63.8(f)(1)-(5) | Use of an Alternative Monitoring Method | Yes.
§ 63.8(f)(6) | Alternative to Relative Accuracy Test | No | Subpart RRRR does not require the use of continuous emissions monitoring systems.
§ 63.8(g)(1)-(5) | Data Reduction | No | Sections 63.4966 and 63.4967 specify monitoring data reduction.
§ 63.9(a)-(d) | Notification Requirements | Yes.
§ 63.9(e) | Notification of Performance Test | Yes | Applies only to capture system and add-on control device performance tests at sources using these to comply with the standards.
§ 63.9(f) | Notification of Visible Emissions/Opacity Test | No | Subpart RRRR does not have opacity or visible emission standards.
§ 63.9(g)(1)-(3) | Additional Notifications When Using CMS | No | Subpart RRRR does not require the use of continuous emissions monitoring systems.
63.9(h) | Notification of Compliance Status | Yes | Section 63.4910 specifies the dates for submitting the notification of compliance status.
§ 63.9(i) | Adjustment of Submittal Deadlines | Yes.
§ 63.9(j) | Change in Previous Information | Yes.
§ 63.10(a) | Recordkeeping/Reporting—Applicability and General Information | Yes.
§ 63.10(b)(1) | General Recordkeeping Requirements | Yes | Additional requirements are specified in §§ 63.4930 and 63.4931.
§ 63.10(b)(2)(i)-(v) | Recordkeeping Relevant to Startup, Shutdown, and Malfunction Periods and CMS | Yes | Requirements for Startup, Shutdown, and Malfunction records only apply to add-on control devices used to comply with the standards.
§ 63.10(b)(2)(vi)-(xi) |  | Yes.
§ 63.10(b)(2)(xii) | Records | Yes.
§ 63.10(b)(2)(xiii) |  | No | Subpart RRRR does not require the use of continuous emissions monitoring systems.
§ 63.10(b)(2)(xiv) |  | Yes.
§ 63.10(b)(3) | Recordkeeping Requirements for Applicability Determinations | Yes.
§ 63.10(c)(1)-(6) | Additional Recordkeeping Requirements for Sources with CMS | Yes.
§ 63.10(c)(7)-(8) |  | No | The same records are required in § 63.4920(a)(7).
§ 63.10(c)(9)-(15) |  | Yes.
§ 63.10(d)(1) | General Reporting Requirements | Yes | Additional requirements are specified in § 63.4920.
§ 63.10(d)(2) | Report of Performance Test Results | Yes | Additional requirements are specified in § 63.4920(b).
§ 63.10(d)(3) | Reporting Opacity or Visible Emissions Observations | No | Subpart RRRR does not require opacity or visible emissions observations.
§ 63.10(d)(4) | Progress Reports for Sources With Compliance Extensions | Yes.
§ 63.10(d)(5) | Startup, Shutdown, and Malfunction Reports | Yes | Applies only to add-on control devices at sources using these to comply with the standards.
§ 63.10(e)(1)-(2) | Additional CMS Reports | No | Subpart RRRR does not require the use of continuous emissions monitoring systems.
§ 63.10(e)(3) | Excess Emissions/CMS Performance Reports | No | Section 63.4920(b) specifies the contents of periodic compliance reports.
§ 63.10(e)(4) | COMS Data Reports | No | Subpart RRRR does not specify requirements for opacity or COMS.
§ 63.10(f) | Recordkeeping/Reporting Waiver | Yes.
§ 63.11 | Control Device Requirements/Flares | No | Subpart RRRR does not specify use of flares for compliance.
§ 63.12 | State Authority and Delegations | Yes
§ 63.13 | Addresses | Yes.
§ 63.14 | Incorporation by Reference | Yes.
§ 63.15 | Availability of Information/Confidentiality | Yes.

Table 3 to Subpart RRRR of Part 63.—Default Organic HAP Mass Fraction for Solvents and Solvent Blends
[You may use the mass fraction values in the following table for solvent blends for which you do not have test data or manufacturer's formulation data:]
Solvent/Solvent blend | CAS. No. | Average organic HAP mass fraction | Typical organic HAP, percent by mass
1. Toluene | 108-88-3 | 1.0 | Toluene.
2. Xylene(s) | 1330-20-7 | 1.0 | Xylenes, ethylbenzene.
3. Hexane | 110-54-3 | 0.5 | n-hexane.
4. n-Hexane | 110-54-3 | 1.0 | n-hexane.
5. Ethylbenzene | 100-41-4 | 1.0 | Ethylbenzene.
6. Aliphatic 140 |  | 0 | None.
7. Aromatic 100 |  | 0.02 | 1% xylene, 1% cumene.
8. Aromatic 150 |  | 0.09 | Naphthalene.
9. Aromatic naphtha | 64742-95-6 | 0.02 | 1% xylene, 1% cumene.
10. Aromatic solvent | 64742-94-5 | 0.1 | Naphthalene.
11. Exempt mineral spirits | 8032-32-4 | 0 | None.
12. Ligroines (VM & P) | 8032-32-4 | 0 | None.
13. Lactol spirits | 64742-89-6 | 0.15 | Toluene.
14. Low aromatic white spirit | 64742-82-1 | 0 | None.
15. Mineral spirits | 64742-88-7 | 0.01 | Xylenes.
16. Hydrotreated naphtha | 64742-48-9 | 0 | None.
17. Hydrotreated light distillate | 64742-47-8 | 0.001 | Toluene.
18. Stoddard solvent | 8052-41-3 | 0.01 | Xylenes.
19. Super high-flash naphtha | 64742-95-6 | 0.05 | Xylenes.
20. Varsol® solvent | 8052-49-3 | 0.01 | 0.5% xylenes, 0.5% ethyl benzene.
21. VM & P naphtha | 64742-89-8 | 0.06 | 3% toluene, 3% xylene.
22. Petroleum distillate mixture | 68477-31-6 | 0.08 | 4% naphthalene, 4% biphenyl.

Table 4 to Subpart RRRR of Part 63.—Default Organic HAP Mass Fraction for Petroleum Solvent Groups ¹
[You May Use the Mass Fraction Values in the Following Fable for Solvent Blends for Which You Do Not Have Test Data or Manufacturer's Formulation Data:]
Solvent type | Average organic HAP mass fraction | Typical organic percent HAP, by mass
Aliphatic ² | 0.03 | 1% Xylene, 1% Toluene, and 1% Ethylbenzene.
Aromatic ³ | 0.06 | 4% Xylene, 1% Toluene, and 1% Ethylbenzene.
¹ Use this table only if the solvent blend does not match any of the solvent blends in Table 3 to this subpart and you only know whether the blend is aliphatic or aromatic.
² E.g., Mineral Spirits 135, Mineral Spirits 150 EC, Naphtha, Mixed Hydrocarbon, Aliphatic Hydrocarbon, Aliphatic Naphtha, Naphthol Spirits, Petroleum Spirits, Petroleum Oil, Petroleum Naphtha, Solvent Naphtha, Solvent Blend.
³ E.g., Medium-flash Naphtha, High-flash Naphtha, Aromatic Naphtha, Light Aromatic Naphtha, Light Aromatic Hydrocarbons, Aromatic Hydrocarbons, Light Aromatic Solvent.

[FR Doc. 03-5623 Filed 5-22-03; 8:45 am]

BILLING CODE 6560-50-P